DEPARTMENT OF HOUSING AND URBAN DEVELOPMENT

[Docket No. FR-5828-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7262, Washington, DC 20410; telephone (202) 402-3970; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2014 for suitability for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2014, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (e.g., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Mr. Robert E. Moriarty, P.E., AFCEC/CI, 2261 Hughes Avenue, Ste. 155, JBSA Lackland, TX 78236-9853; Army: Ms. Veronica Rines, Office of the Assistant Chief of Staff for Installation Management, Department of Army, Room 5A128, 600 Army Pentagon, Washington, DC 20310, (571)-256-8145; COE: Mr. Scott Whiteford, Army Corps of Engineers, Real Estate, CEMP-CR, 441 G Street NW., Washington, DC 20314; (202) 761-5542; Commandant, United States Coast Guard, Attn: Jennifer Stomber, 2703 Martin Luther King Jr. Ave. SE., Stop 7714, Washington, DC 20593-; (202) 475-5609; Coast Guard: Commandant, United States Coast Guard, Attn: Jennifer Stomber, 2703 Martin Luther King Jr. Avenue SE., Stop 7741, Washington, DC 20593-7714; (202) 475-5609; Energy: Mr. David Steinau, Department of Energy, Office of Property Management, OECM MA-50, 4B122, 1000 Independence Ave, SW., Washington, DC 20585 (202) 287-1503; GSA: Mr. Flavio Peres, General Services Administration, Office of Real Property Utilization and Disposal, 1800 F Street NW., Room 7040, Washington, DC 20405, (202) 501-0084; Navy: Mr. Steve Matteo, Department of the Navy, Asset Management Division, Naval Facilities Engineering Command, Washington Navy Yard, 1330 Patterson Ave. SW., Suite 1000, Washington, DC 20374; (202)685-9426; Veterans Affairs: Ms. Jessica L. Kaplan, Real Property Service, Department of Veterans Affairs, 810 Vermont Avenue NW. (003C1E), Washington, DC 20420; (These are not toll-free numbers).

Dated: February 5, 2015.
Brian P. Fitzmaurice,
Director, Division of Community Assistance, Office of Special Needs Assistance Programs.

TITLE V PROPERTIES REPORTED IN YEAR 2014 WHICH ARE SUITABLE AND AVAILABLE

Army

Building

Alabama

C1301 Property Number: 21201220017

Ft. McClellan

Ft. McClellan AL 36205

Status: Excess

Comments: off-site removal only; 2,232 sf.; barracks; extensive repairs needed; secured area; need prior approval to access property.

11 Buildings Property Number: 21201340002

Redstone Arsenal

Redstone Arsenal AL 35898

Location: 4469, 7328, 7352A, 7352B, 7353A, 7635, 7668A, 7688A, 7902, 7908

(Please Note: 7352A, 7352B, and 7688A are Suitable/Unavailable)

Status: Unutilized

Comments: off-site removal only; no future agency need; sq. ft. varies; major repairs needed; secured area; contact Army for more info. on a specific property & accessibility reqs.

4 Buildings Property Number: 21201410026

Redstone Arsenal

Redstone Arsenal AL 35898

Location: 3535 (150 sq. ft.); 3538 (48 sq. ft.); 4637 (2,095 sq. ft.); 7330 (75 sq. ft.)

Status: Unutilized

Comments: off-site removal only; no future agency need; repairs needed; secured area; contact Army for more information.

5 Buildings Property Number: 21201420016

Redstone Arsenal

Redstone Arsenal AL 35898

Location: 7742A; 7742B; 7740A; 7740B; 7740

Status: Unutilized

Comments: off-site removal only; must be dismantled; no future agency need; extensive repairs required; contact Army for more info. on a specific property & accessibility/removal reqs.

4811 Property Number: 21201430024

Redstone Arsenal

Redstone Arsenal AL 35898

Location: 4811

Status: Unutilized

Comments: off-site removal only; no future agency need; 221 sq. ft.; flammable/explosive storage facility; 12+ months vacant; deteriorated; secured area; contact Army for more information.

6108 Property Number: 21201430028

Redstone Arsenal

Redstone Arsenal AL 35898

Location: 6108

Status: Unutilized

Comments: off-site removal only; no future agency need; 321 sq.; detection fac.; 12+ mon. vacant; deteriorated; endangered species (i.e., gray bat) present; secured area; contact Army for more info.

Air Force

Alaska

2 Buildings Property Number: 18201310030

Industrial Ave.

Eielson AFB AK 99702

Location: 6213, 6214

Status: Unutilized

Comments: off-site removal only; sf. varies; major repairs needed; contact AF for more info. on a specific property & accessibility/removal reqs.

Building 720 Property Number: 18201320083

Fuel Lane

King Salmon Airport AK

Status: Unutilized

Comments: 285 sf.; fuel building; 24+ months vacant; deteriorated; periodic flooding (next to Naknek River).

Land

Parcel of Land Property Number: 18201330011

Joint Base Elmendorf Richardson

JBER AK 99506

Status: Underutilized

Comments: 20x20 (400 sf.); secured area; must obtain a visitor's pass & have a gov't sponsor escort to access installation; contact Air Force for more info.

37,515 SF of Land Property Number: 18201340003

JBER-Elmendorf

JBER AK 99506

Status: Underutilized

Comments: restricted area; transferee must obtain a government sponsor to access property; contact Air Force for more info.

Army

Building

Bldg. 00001 Property Number: 21200340075

Kiana Nat'l Guard Armory

Kiana AK 99749

Status: Excess

Comments: 1200 sq. ft., butler bldg., needs repair, off-site use only.

Bldg. 00001 Property Number: 21200710051

Holy Cross Armory

High Cross AK 99602

Status: Excess

Comments: 1200 sq. ft. armory, off-site use only.

Building 00001 Property Number: 21201320038

9679 Tuluksak Rd.

Toksook AK 99679

Status: Excess

Comments: 1,200 sf.; armory; 60 months vacant; poor conditions.

Building 00001 Property Number: 21201330030

Lot 7 Block 11 US Survey 5069

Noorvik AK 99763

Status: Excess

Comments: 1,200 sf. armory; 60+ months vacant; poor conditions; contact Army for more info.

Building 00001 Property Number: 21201330031

P.O. Box 22

Gambell AK 99742

Status: Excess

Comments: 1,208 sf.; armory; 60+ months vacant; poor conditions; contact Army for more info.

Building 0001 Property Number: 21201330032

Kivalina Armory

Kivalina AK 99750

Status: Excess

Comments: 1,200 sf. armory; 600+ months vacant; poor conditions; contact Army for more info.

Akiachak 00001 Property Number: 21201330033

500 Philips St.

Akiachak AK 99551

Status: Excess

Comments: 1,200 sf.; armory; 60+ months vacant; poor conditions; contact Army for more info.

Arizona

Building 90890 Property Number: 21201440051

Fort Huachuca

Fort Huachuca AZ 85613

Status: Unutilized

Comments: off-site removal only; no future agency need; 40 sq. ft.; 80+ months vacant; repairs.

Arkansas

7 Bldgs. Property Number: 21201140055

Pine Bluff Arsenal

Pine Bluff AR 71602

Location: 57240, 57210, 57160, 57150, 57120, 5743, 5739

Status: Unutilized

Comments: off-site removal only; sq. ft. varies; current use: lab/test bldg.

Bldg. 57260 Property Number: 21201140057

Pine Bluff Arsenal

Pine Bluff AR 71602

Status: Unutilized

Comments: off-site removal only; 9,474 sq. ft.; current use: CHM EQ/MAT Bldg.

Bldg. 16440 Property Number: 21201210095

Pine Bluff Arsenal

Pine Bluff AR 71602

Status: Unutilized

Comments: off-site removal; 1,660 sf.; current use: office; extensive mold damage; needs major.

COE

Concrete Masonry Vault Toilet Property Number: 31201420006

Pine Bluff Project Office

Pine Bluff AR 71602

Status: Excess

Comments: off-site removal only; 480 sq. ft.; 38+ yrs.-old; structurally sound; contact COE for more information.

Shiloh Park Change Shelter Property Number: 31201420013

Greers Ferry Lake Project

Greers Ferry AR 72067

Status: Underutilized

Comments: off-site removal only; no future agency need; 420 sq. ft.; fair conditions; contact COE for more information.

South Fork Park Vault Toilet Property Number: 31201420014

Greers Ferry Lake Project

Shirley AR 72153

Location: Property ID# GFERRY-44567

Status: Unutilized

Comments: off-site removal only; no future agency need; 172.8 sq. ft.; poor conditions; contact COE for more information.

Blue Mountain House #1 Property Number: 31201430009

10152 Outlet Park Rd.

Havana AR 72842

Status: Unutilized

Comments: off-site removal only; no future agency need; difficult to relocate due to structure type; 1,850 sq. ft.; storage; poor condition; contact COE for more information.

Blue Mountain House #1 Property Number: 31201430010

10152 Outlet Park Rd.

Havana AR 72842

Status: Unutilized

Comments: off-site removal only; no future agency need; difficult to relocate due to structure type; 1,752 sq. ft.; poor condition; contact COE for more information.

Agriculture

California

Mad River Single Property Number: 15201420001

Wide Trailer

Six Rivers National Park

Mad River CA

Status: Excess

Comments: 600 sq. ft.; residence; very poor conditions due to water damage & age; secured area; contact Agriculture for more information.

Alder Springs Multi-Function Property Number: 15201430002

3337 County Road 307

P.O. Box 27

Elk Creek CA 95939

Location: 2212

Status: Excess

Comments: 8,172 sq. ft.; good conditions; storage; 48+ years old; under a special use permit; site gated; contact Agriculture for more information.

Alder Springs GYM; 2803 Property Number: 15201430003

3337 County Road 307

Elk Creek CA 95939

Status: Excess

Comments: 9,699 sq. ft.; 48+ years old; good conditions; under special use permit; site is gated; contact Agriculture for more information.

Hunter Point Radid Vault Property Number: 15201430005

3306 Upper Lake CA 95485

Status: Excess

Comments: 94 sq. ft.; 52+ years old; fair conditions; contact Agriculture for more information.

Mad River Single Wide Trailer Property Number: 15201440001

@Ruth Fire Station

741 State Hwy 36

Mad River CA 95552

Status: Excess

Comments: off-site removal only; 35+ yrs. old; 768 sq. ft.; very poor conditions; located in a secure area; contact Agriculture for more information.

Air Force

Building 1028 Property Number: 18201240009

19338 North St.

Beale CA 95903

Status: Unutilized

Comments: 178 sf.; storage; poor conditions; asbestos & lead; restricted area; contact AF for info. on accessibility requirements.

Building 2153 Property Number: 18201240010

6900 Warren Shingle

Beale AFB CA 95903

Status: Unutilized

Comments: 4,000 sf.; storage; very poor conditions; asbestos & lead possible; restricted area; contact AF for info. on accessibility requirements.

Army

Bldgs. 18026, 18028 Property Number: 21200130081

Camp Roberts

Monterey CA 93451-5000

Status: Excess

Comments: 2024 sq. ft. sq. ft., concrete, poor condition, off-site use only.

5 Buildings Property Number: 21201230043

JFTB

Los Alamitos CA 90720

Location: 148,149,261,280,281

Status: Excess

Comments: off-site removal only; sf. varies; use: storage; poor conditions; contamination; permission required to access property to remove of installation.

1201T Property Number: 21201310060

Tower Rd.

Dubin CA 94568

Status: Unutilized

Comments: off-site removal only; 30 sf.; control tower; poor conditions; restricted area; transferee must obtain real estate doc. to access/remove; contact Army for more info.

1201S & 1205S Property Number: 21201310062

Tower Rd.

Dublin CA 94568

Location: previously reported under 21201010006

Status: Unutilized

Comments: redetermination: off-site removal only; 396 & 252 sf. repetitively; storage; poor conditions; transferee will need to obtain real estate doc. to access/remove property; contact Army for more info.

2 Building Property Number: 21201330002

Parks Reserve Forces Training Area

Dublin CA 94568

Location: 1108,1109

Status: Underutilized

Comments: off-site removal only; no future agency need; sf. varies; poor conditions; secured area; contact Army for info. on a specific property & accessibility removal reqs.

7 Building Property Number: 21201330003

Parks Reserve Forces Training Area

Dublin CA 94568

Location: 200,00974,1080,1085,1100,1101,1176

Status: Unutilized

Comments: sf varies; no future agency need; poor/deteriorated conditions; secured area; escort required; contact Army for more info. on a specific property & accessibility reqs./removal options.

Building 4230 Property Number: 21201330007

Ord Military Community

Seaside CA 93955

Location: 4230

Status: Unutilized

Comments: 15,908 sf.; theater; vacant since 2000; 43 yrs.-old; mold; lead-based paint; asbestos; contact Army for more info.

Building 4230 Property Number: 21201330010

Ord Military Community

Seaside CA 93955

Location: 4230

Status: Unutilized

Comments: 15,908 sf.; theater; vacant since 2000; 43 yrs.-old; mold; lead-based paint; asbestos; contact Army for more info.

11 Building Property Number: 21201330018

Fort Hunter Liggett

Fort Hunter Liggett CA 93928

Location: 0100A,0178B,00306,00408,0418A,00850,00851,00932,00945,00946,00947

Status: Unutilized

Comments: offsite removal only; no future agency need; St. varies, conditions range from good to dilapidated secured area, contact Army for more info. on a specific property & accessibility/removal reqs.

22 Buildings Property Number: 21201330019

Hwy. 101, Bldg. 109

Camp Roberts CA 93451

Location: 00902,00936,01019,06079,06080,06125,06320,14212,14308,14801,25012,25013,27108,27110,27126,RB001,RB003,RB004,RB005,RB006,RB007,RB043

Status: Excess

Comments: correction: Bldg. 14801 incorrectly published on 08/30/2013; off-site removal only; 6+ months vacant; poor conditions; contamination; secured area; contact Army for info.

11 Building Property Number: 21201330022

Fort Hunter Liggett.

Fort Hunter Liggett CA 93928

Location: 0100A,0178B,00306,00408,0418A,00850,00851,00932,00945,00946,00947

Status: Unutilized

Comments: offsite removal only; no future agency need; St. varies, conditions range from good to dilapidated secured area, contact Army for more info. on a specific property & accessibility/removal reqs.

11 Building Property Number: 21201330023

Fort Hunter Liggett

Fort Hunter Liggett CA 93928

Location: 0100A,0178B,00306,00408,0418A,00850,00851,00932,00945,00946,00947

Status: Unutilized

Comments: offsite removal only; no future agency need; St. varies, conditions range from good to dilapidated secured area, contact Army for more info. on a specific property & accessibility/removal reqs.

23 Buildings Property Number: 21201330025

Hwy 101, Bldg. 109

Camp Robert CA 93451

Location: T0805,T0831,T0834,T0874,T0876,T0917,T0920,T0922,T0923,T0925,T0933,T0934,T0935,T0955,T0956,T0955,T0956,T0966,T0967,T0992,T6005,T6029,T6406,T7025,T7037

Status: Excess

Comments: off-site removal only; sf varies; 6t months vacant; poor conditions; contamination; secured area; contact Army for more info. on a specific property & accessibility removal reqs.

11 Building Property Number: 21201330026

Fort Hunter Liggett

Fort Hunter Liggett CA 93928

Location: 0100A,0178B,00306,00408,0418A,00850,00851,00932,00945,00946,00947

Status: Unutilized

Comments: off-site removal only; no future agency need; St. varies, conditions range from good to dilapidated secured area, contact Army for more info. on a specific property & accessibility/removal reqs.

7 Buildings Property Number: 21201330067

Sierra Army Depot

Herlong CA 96113

Location: 00478,00548,00681,00682, 00683, 00684, and 00685

Status: Unutilized

Comments: sf. varies, 36-204+ months vacant; fair to deteriorated; secured area; extensive background check required; contact Army for info. on a specific property & accessibility reqs.

2 Buildings Property Number: 21201410024

Camp Roberts MTC

Camp Roberts CA 93451

Location: 14102 (864 sq. ft.); 14801 (200 sq. ft.)

Status: Excess

Comments: off-site removal only; 72+ yrs.-old; secured area; contact Army for accessibility/removal requirements.

7 Building Property Number: 21201410027

Fort Irwin

Fort Irwin CA 92310

Location: 359 (1,458 sq. ft.); 806 (5,328 sq. ft.); 807 (3,956 sq. ft.); 865 (2,928 sq. ft.); 1034 (2,160 sq. ft.); 1323 (3,664 sq. ft.); 9032 (6,038 sq. ft.)

Status: Unutilized

Comments: off-site removal only; dissemble required; no future agency need; repairs needed; contamination; secured area; contact Army for more information.

4 Buildings Property Number: 21201420004

Fort Hunter Liggett

711 ASP Road

Fort Hunter Liggett CA 93928

Location: 711;710;0408A;719

Status: Unutilized

Comments: off-site removal only; no future agency need; poor conditions; must obtain access documentation; contact Army for information on a specific property and accessibility/removal request.

Building 239 Property Number: 21201420005

Fort Hunter Liggett

Fort Hunter Liggett CA 93928

Location: 209 sq. ft.; 24+ yrs.-old; latrine

Status: Underutilized

Comments: off-site removal only; no future agency need; must obtain access documentation; fair to poor conditions; contact Army for info. & accessibility removal reqs.

Bldg. 53 Property Number: 21201430003

Navy Lodge on RT Jones Rd.

Mountain View CA

Status: Excess

Comments: off-site removal only; 960 sq. ft.; storage; poor conditions; contact Army for more information

00294 Property Number: 21201430018

Los Alamitos Joint Forces Training Base (JFTB)

Los Alamitos CA 90720-5002

Location: 00294

Status: Underutilized

Comments: off-site removal only; no future agency need; 980 sq. ft.; storage/general purpose; very poor condition; secured area; contact Army for more information.

Building 00054 Property Number: 21201440019

Los Alamitos Joint Forces Training Base

Los Alamitos CA 90720

Status: Unutilized

Comments: off-site removal only; no future agency need; relocation extremely difficult due to size/type; 13,680 sq. ft.; national guard readiness center; very poor conditions; contact Army for more information.

Energy

31 Trailers Property Number: 41201440007

700 East Ave.

Livermore CA 94550

Location: 1280; 1602; 1631; 1678; 1680; 1726; 1756; 1826; 1886; 1887; 2180; 2512; 2525; 2554; 2625; 2627; 2679; 2808; 2825; 2925; 3204; 3206; 3304; 4924; 5104; 5207; 5226; 6424; 6426; 8724; 8726

Status: Excess

Comments: off-site removal only; 80,324 GSF; fair to adequate condition; contact DOE for accessibility & any further information regarding trailers.

Agriculture

Colorado

Tucker Ponds Picnic Area Property Number: 15201430023

Rio Grande Nat'l Forest

2.3 miles S on NFSR 390 from Intersection W/H

South Fork CO 81154

Status: Unutilized

Comments: off-site removal; removal may cause bldg. to collapse; 52+ yrs. old; wood structure; human waste; habilitation longer than 14 days prohibited; contact Agriculture for more info.

Rio Grande National Forces Rood Property Number: 15201430024

Canyon Picnic Area/Boot Ramp Toilet 5001

5.2 Miles West On NFSR 520 From Intersection

Creede CO 81130

Status: Unutilized

Comments: off-site removal; removal may cause bldg. to collapse; 57+ yrs. old; wood structure; holds human waste; contact Agriculture for more info.

Cross Creek CG Storage—Property Number: 15201430025

CRSCKCGTI/Rio Grande Nat'l Forest

6.2 Miles SW on NFSR 20 From Intersection W/H

South Fork CO 81154

Status: Unutilized

Comments: off-site removal; removal may cause bldg. to collapse; 54+ yrs. old; wood structure; holds human waste; habitation longer than 14 days prohibited; contact Agriculture for more Info.

Lower Beaver CG Toilet 3 Property Number: 15201430026

LBEAVCGT3/Rio Grande Nat'l Forest

3 Miles SW on NFSR 20 Intersection W/Hwy 160

South Fork CO 81154

Status: Unutilized

Comments: off-site removal; 53+yrs. old; wood structure; human waste; habitation beyond 14 days prohibited; contact Agriculture for more info.

Bristol View GS Pit Toilet # Property Number: 15201430027

1103 Rio Grande Nat'l Forest

3.5 Miles W on NFSR 520

Creede CO 81130

Status: Unutilized

Comments: off-site removal; 79+ years old; wood structure; site has restricted access; contact Agriculture for more information.

Lower Beaver CG Toilet 2 Property Number: 15201430028

#LBEAVCGT2 Rio Grant Nat'l Forest

3 Miles SW on NFSR 20 W/Hwy 160

South Fork CO 81154

Status: Unutilized

Comments: off-site removal; 53+ years old; wood structure; human waste; habitation beyond 14 days prohibited; contact Agriculture for more information.

Lobo Overlook Toilet Property Number: 15201430029

#LBOVLKT1/Rio Grande Nat'l Forest

Lobo Overlook 3 Miles Northerly of NFSR 402

South Fork CO 81154

Status: Unutilized

Comments: off-site removal; 50+ years old; wood structure; human waste; habitation beyond 14 days prohibited; contact Agriculture for more information.

Air Force

Building 00001 Property Number: 18201430002

Hawkinsville Space Surveillance Station

Peterson AFB CO

Status: Excess

Comments: 2,880 sq. ft.; 4+ months vacant; fair to good conditions; environmental conditions exist; contact Air Force for more information.

Building 0001 Property Number: 18201430003

Lake Kickapoo Space Surveillance Station

Peterson AFR CO

Status: Excess

Comments: 3,710 sq. ft.; 9+ months vacant; fair to good conditions; environmental condition exist; contact Air Force.

Building 00006 Property Number: 18201430004

Red River Space Surveillance Center

Peterson AFK CO

Status: Excess

Comments: 196 sq. ft.; 4+ months vacant; fair to good conditions; contact Air Force for more information.

Building 00003 Property Number: 18201430005

Tattnal Space Surveillance Station

Peterson AFR CO

Status: Excess

Comments: 800 sq. ft.; 4+ months vacant; good to fair conditions; contact Air Force for more information.

Building 00003 Property Number: 18201430006

Hawkinsville Space Surveillance Station

Peterson AFB CO

Status: Excess

Comments: 1,650 sq. ft.; 4+ months vacant; good to fair conditions; contact Air Force for more information.

Lake Kickapoo Space Property Number: 18201430007

Surveillance Station

Peterson AFB CO

Status: Excess

Comments: 800 sq. ft.; 4+ months vacant; repairs needed; contact Air Force for more information.

Jordan Lake Space Property Number: 18201430008

Surveillance Station

Peterson AFB CO

Location: Buildings 00001; 00003; 00006

Status: Excess

Comments: building 1: 2,565 sq. ft.; building 3: 800 sq. ft.; building 6: 156 sq. ft.; good to moderate conditions; contact Air Force for more information.

Building 00006 Property Number: 18201430009

Hawkinsville Space Surveillance Station

Peterson AFB CO

Status: Excess

Comments: 172 sq. ft.; repairs needed; contact Air Force for more information.

4 Buildings Property Number: 18201430010

San Diego Space Surveillance Station

Peterson AFB CO

Location: Buildings 00001; 00003; 00026; 00081

Status: Excess

Comments: building: 1=5,002 sq. ft.; Building: 3=900 sq. ft.; Building 26=500 sq. ft.; Building 81=800 sq. ft.; good to poor conditions.

3 Buildings Property Number: 18201430017

Lake Kickapoo Space Surveillance Station

Peterson AFB CO

Location: Buildings 00006; 00007; 00009

Status: Excess

Comments: building 6—400 Sq. ft.; building 7—1,109 sq. ft.; building 9—100 sq. ft.; repairs needed; contact Air Force for more information.

Buildings 00001 and 00003 Property Number: 18201430018

Red River Space Surveillance Center

Peterson AFB CO

Status: Excess

Comments: building 1—2,755 sq. ft.; building 3—775 sq. ft.; good conditions; contact Air Force for more information.

2 Buildings Property Number: 18201430019

Tattnall Space Surveillance Station

Peterson AFB CO

Location: Buildings 00006 and 00001

Status: Excess

Comments: building 6—80 sq. ft.; building 1—2,807 sq. ft.; good conditions; contact Air Force for more information.

Land

Red River Space Surveillance Property Number: 18201430011 Center

Lat. 33.19 50.77431 N Long. 093.33 00.35121 W

Peterson AFB CO

Status: Excess

Comments: 60 acres; contact Air Force for more information.

Jordan Lake Space Surveillance Property Number: 18201430012

Station

Lat. 32 39 32.4828 N Long. 086 15 48.6672 W

Peterson AFB CO

Status: Excess

Comments: 9 acres; contact Air Force for more information.

San Diego Space Surveillance Property Number: 18201430013

Station

Lat. 32 34 38.69636 N Long. 116 58 28.92446 W

Peterson AFB CO

Status: Excess

Comments: 109 acres; contact Air Force for more information.

Lake Kickapoo Space Property Number: 18201430014

Surveillance Station

Lat. 33 33 14.33880 N Long. 098 45 46.47286 W

Peterson AFB CO

Status: Excess

Comments: 1,342 acres; contact Air Force for more information.

Hawkinsville Space Surveillance Property Number: 18201430015

Station

Lat. 32 17 15.1011 N Long. 083 32 11.1625 W

Peterson AFB CO

Status: Excess

Comments: 131 acres; contact Air Force for more information.

Tattnall Space Surveillance Property Number: 18201430016

Station

Lat. 32 02 37.6891 N Long. 081 55 33.2267 W

Peterson AFB CO

Status: Excess

Comments: 102 acres; contact Air Force for more information.

Army

Building

Building 01852 Property Number: 21201320036

6359 Barkley Ave.

Ft. Carson CO 80913

Status: Excess

Comments: off-site removal only; 9,822 sf.; BDE HQ; repairs needed; asbestos; secured area; contact Army for access/removal requirements.

Building 01854 Property Number: 21201320037

6370 Porter St.

Ft. Carson CO 80913

Status: Excess

Comments: off-site removal only; 3,800 sf.; Admin.; repairs needed; asbestos; secured area; contact Army for access/removal requirements.

Building 00304 Property Number: 21201320039

5020 Tevis St.

Ft. Carson CO 80913

Status: Excess

Comments: off-site removal only; 15,484 sf.; Admin.; 4 months vacant; repairs needed; asbestos; contact Army for access/removal requirements

Building 01430 Property Number: 21201330028

6101 Wetzel Ave.

Fort Carson CO 80913

Status: Unutilized

Comments: off-site removal only; no future agency use; 4t months; 41,098 sf.; admin.; maint./repairs needed; secured area; contact Army for more info. re. accessibility/removal reqs.

3 Buildings Property Number: 21201340017

Fort Carson

Fort Carson CO 80913

Location: R043A(120sq. ft.); R043D(240 sq. ft.); R111A(120 sq.)

Status: Unutilized

Comments: off-site removal only; no future agency need; sq. ft. varies; poor conditions; secured area; contact Army for more information on a specific property & accessibility requirements.

4 Buildings Property Number: 21201420007

Fort Carson

6466 Specker Ave., Building 1520

Fort Carson CO 80913-4001

Location: 01520;01909;05510;06250

Status: Unutilized

Comments: off-site removal only; no future agency need; contamination; repairs required; secured area; contact Army for information on a specific property and accessibility/removal request.

8 Buildings Property Number: 21201420008

Fort Carson

3446 Airfield Road, Building 9600

Fort Carson CO 80913-4001

Location: 09600; 09601; 09602; 9605; 9608; 09610; 9634A; 9635A

Status: Excess

Comments: off-site removal only; contamination; repairs required; secured area; contact Army for information on a specific property and accessibility/removal request.

Building 09611 Property Number: 21201420012

Fort Carson

Ft. Carson CO 80913

Status: Underutilized

Comments: off-site removal only; no future agency need; 4,255 sq. ft.; org. classroom; 49+yrs.-old; repairs required; contamination; secured area; contact Army for more info.

9417 Property Number: 21201430045

Fort Carson

Fort Carson CO 80913

Status: Unutilized

Comments: off-site removal only; no future agency need; 40 sq. ft.; access control point; repairs needed; secured area; contact Army for more information.

9745 Property Number: 21201430046

Fort Carson

Fort Carson CO 80913

Status: Unutilized

Comments: off-site removal only; no future agency need; 100 sq. ft.; access control point; repairs needed; secured area; contact Army for more information.

Building 01431 Property Number: 21201440050

6101 Wetzel Ave.

Ft. Carson CO 80913

Status: Unutilized

Comments: off-site removal only; no future agency need; 202 sq. ft.; 4+ months vacant; repair needed; contact Army for more information.

Air Force

Florida

Building 5002 Property Number: 18201310010

6801 Hwy 98

Tyndall AFB FL 32403

Status: Unutilized

Comments: 151 sf.; water pump station; 6 mons. vacant; major repairs; restricted area; contact AF for info. on accessibility reqs.

2 Buildings Property Number: 18201340040

Cocoa Beach Tracking Annex

Cocoa Beach FL 32931

Location: 00001 (59 sq. ft.); 00002 (1,030 sq. ft.)

Status: Unutilized

Comments: 56+ yrs.-old; 24+ months vacant; launch support; fair conditions; contact Air Force for more info.

Land

WBPA (9901/72441/99300) Property Number: 18201310041

9901 E. Pine Ave.

St. George Island FL 32328

Status: Excess

Comments: .34 acres; tower & fence needs to be removed; remote access; contact AF for more info.

99142 Land Property Number: 18201340041

Cocoa Beach Tracking Annex

Cocoa Beach FL 32931

Status: Unutilized

Comments: .31 acre; launch support; subject to storm tidal surges that may cause flooding; contact Air Force for more info.

Coast Guard

Building

USCG Station Property Number: 88201420005

151/153 Treasure Harbor Dr.

Islamorada FL 33036

Status: Unutilized

Comments: 5,052 sq. ft.; deterioration; moisture damage; surrounded by a fence boundary; contact Coast Guard for more information.

Air Force

Georgia

5 Buildings Property Number: 18201330006

Moody Air Force Base

Moody GA 31699

Location: 1703 (853 sf.); 907 & 908 (9,186 sf. each); 662 & 754 (10,240 sf. each)

Status: Underutilized

Comments: very poor conditions; 50-70 yrs.-old; contamination; secured area; transferee will need Escort each time to access property; contact Air Force for more info.

Army

Bldg. 1201 Property Number: 21201140013

685 Horace Emmet Wilson Blvd.

Savannah GA 31409

Status: Excess

Comments: off-site removal only; 8,736 sq. ft.; current use: Administrative office; fair conditions —bldg. need repairs; possible asbestos.

Building 904 Property Number: 21201310004

2022 Veterans Pkwy

Ft. Stewart GA 31314

Status: Excess

Comments: off-site removal only; 9,993 sf.; museum; poor conditions; asbestos & lead-based paint; w/in secured area; Gov't escort required to access/remove property.

Building 862 Property Number: 21201310010

259 N. Lightening Rd.

Hunter Army Airfield GA 31409

Status: Excess

Comments: off-site removal only; 826 sf.; Battery Shop; poor conditions; w/in secured area; contact Army for info. on accessibility/removal reqs.

Building 853 Property Number: 21201310011

140 Barren Loop Rd.

Hunter Army Airfield GA 31409

Status: Excess

Comments: off-site removal only; 4,100 sf.; Admin. 3 mons. vacant; fair conditions; w/in secured area; contact Army for accessibility/removal reqs.

Building 866 Property Number: 21201310012

395 N. Lightening Rd.

Hunter Army Airfield GA 31409

Status: Excess

Comments: off-site removal only; 2,100 sf.; Admin.; fair conditions; w/in secured area; contact Army for info. on accessibility/removal reqs.

Building 9597 Property Number: 21201310013

Bultman Ave.

Ft. Stewart GA 31314

Status: Excess

Comments: off-site removal only; 324 sf.; storage; 6 mons. vacant; poor conditions; w/in secured area; Gov't escort only to access/remove property.

Buildings 8579 & 8580 Property Number: 21201310014

N. Perimeter Rd.

Hunter Army Airfield GA 31409

Status: Excess

Comments: off-site removal only; sf. varies; poor conditions; w/in secured area; Gov't escort only to access/remove property.

Building 8056 Property Number: 21201310015

N. Lightening Rd.

Hunter Army Airfield GA 31409

Status: Excess

Comments: off-site removal only; 3,790 sf.; navigation bldg.; 10 mons. vacant; fair conditions; asbestos; w/in secured area; Gov't escort only to access/remove property.

Buildings 7736 & 7740 Property Number: 21201310016

Chip Rd.

Ft. Stewart GA 31314

Status: Excess

Comments: off-site removal only; sf. varies; poor conditions; w/in secured area; Gov't escort only to access/remove property.

3 Buildings Property Number: 21201310017

McFarland Ave.

Ft. Stewart GA 31314

Location: 1710, 1711, 1712

Status: Excess

Comments: off-site removal only; sf. varies; poor conditions; w/in secured area; Gov't escort only to access/remove property.

Buildings 1303 & 1304 Property Number: 21201310018

Warrior Rd.

Ft. Stewart GA 31314

Status: Excess

Comments: off-site removal only; sf. varies; poor conditions; w/in secured area; Gov't escort only to access/remove property.

Building 1155 & 1156 Property Number: 21201310019

N. Lightening Rd.

Hunter Army Airfield GA 31409

Status: Excess

Comments: off-site removal only; sf. varies; poor conditions; w/in secured area; Gov't escort only to access/remove property.

Buildings 1139 & 1151 Property Number: 21201310020

Veterans Pkwy

Ft. Stewart GA 31314

Status: Excess

Comments: off-site removal only; sf. varies; poor conditions; w/in secured area; Gov't escort only to access/remove property.

Building 919 Property Number: 21201310021

574 McFarland Ave.

Ft. Stewart GA 31314

Status: Excess

Comments: off-site removal only; 1,440 sf.; Admin. 5 mons. vacant; poor conditions; w/in secured area; Gov't escort required to access/remove property.

Building 1104 Property Number: 21201310022

Frank Cochran Dr.

Hinesville GA 31314

Status: Excess

Comments: off-site removal only; 240 sf.; storage; poor conditions; w/in secured area; Gov't escort required to access/remove property.

Building 1105 Property Number: 21201310023

Veterans Pkwy

Ft. Stewart GA 31314

Status: Excess

Comments: off-site removal only; 7,132 sf.; Maint. Facility; poor conditions; asbestos & lead; w/in secured area; Gov't escort required to access/remove property.

Building 1130 Property Number: 21201310024

Veterans Pkwy

Ft. Stewart GA 31314

Status: Excess

Comments: off-site removal only; 322 sf.; storage; poor conditions; w/in secured area; Gov't escort only to access/remove property.

Building 1132 Property Number: 21201310025

Veterans Pkwy

Ft. Stewart GA 31314

Status: Excess

Comments: off-site removal only; 182 sf.; latrine; poor conditions; w/in secured area; Gov't escort only to access/remove property.

Building 1133 Property Number: 21201310026

Veterans Pkwy

Ft. Stewart GA 31314

Status: Excess

Comments: off-site removal only; 501 sf.; latrine; poor conditions; w/in secured area; Gov't escort only to access/remove property.

Building 1134 Property Number: 21201310027

Veterans Pkwy

Ft. Stewart GA 31314

Status: Excess

Comments: published on 03/08/2013 incorrectly as `land'; off-site removal only; 513sf. Admin. poor conditions; asbestos; w/in secured area; Gov't escort only to access/remove property.

Building OT022 Property Number: 21201330005

46 22nd Street

Fort Gordon GA 30905

Status: Unutilized

Comments: No future agency need; off-site removal only; 960 sf.; classroom; 120 months; dilapidated; contamination; closed post; contact Army for accessibility/removal requirements.

Building OT007 Property Number: 21201330006

31 22nd Street

Fort Gordon GA 30905

Status: Unutilized

Comments: off-site removal only; no future agency need; 960 sf.; classroom; 120t months; dilapidated; contamination; closed post; contact Army for accessibility/removal reqs.

8 Building Property Number: 21201330024

Hunter Army Airfield

Hunter Army Airfield GA 31409

Location: 1031, 1160, 8054, 8055, 8080, 8082, 8084, 8629

Status: Excess

Comments: off-site removal only; sf. varies; contamination; secured area; contact Army for info. on a specific property & accessibility/removal reqs.

3 Buildings Property Number: 21201330036

Veterans Pkwy.

Fort Stewart GA 31314

Location: 1101, 1108, 1129

Status: Excess

Comments: off-site removal only; poor conditions; contamination; secured area; contact Army for info. on a specific property; accessibility removal reqs.

Building 00TR4 Property Number: 21201330045

43 Pistol Range Road

Whitfield GA 30755

Status: Excess

Comments: off-site removal only; 2,560 sf.; dining facility; 78 yrs. old; poor conditions; contact Army for more info.

Building 1157 Property Number: 21201410033

Hunter Army Airfield

Hunter Army Airfield GA 31409

Status: Excess

Comments: off-site removal only; 5,809 sq. ft.; poor conditions; secured area; gov't escort required; contact Army for more info.

38 Buildings Property Number: 21201430049

Fort Benning

Ft. Benning GA 31905

Location: 02505; 02602; 02604; 02606; 02607; 02608; 02609; 026011; 02610; 02612; 02613; 02614; 02615; 02616; 02617; 02618; 02619; 02620; 02621; 02622; 02624; 02625; 02626; 02627; 02628; 02629; 02630; 02631; 02632; 02633; 02634; 02635; 02636; 02637; 02638; 09200; 09201; 09202

Status: Underutilized

Comments: off-site removal only; no future agency need; deconstruct to relocated; may be difficult to deconstruct due to type/size; poor conditions; secured area; contact Army for more info.

7 Buildings Property Number: 21201430050

Fort Benning

Ft. Benning GA 31905

Location: 2903; 2902; 2759; 1792; 1369; 229; 387

Status: Unutilized

Comments: off-site removal only; no future agency need; poor conditions; deconstruction needed; may be difficult to relocate due to type/size; contact Army for more info.

Building 7097 Property Number: 21201440007

Fort Stewart

Ft. Stewart GA 31314

Status: Underutilized

Comments: off-site removal only; no future agency need; relocation difficult due to size/type; 9,520 sq. ft.; child development center; 6+ months vacant; poor conditions; contact Army for more information.

100 Property Number: 21201440008

Hunter Army Airfield

Hunter Army Airfield GA 31409

Status: Excess

Comments: off-site removal only; relocation extremely difficult due to size; 13,331 sq. ft.; classroom; poor conditions; contact Army for more information.

1020 Property Number: 21201440009

Hunter Army Airfield

Hunter Army Airfield GA 31409

Status: Underutilized

Comments: off-site removal only; no future agency need; relocation extremely difficult due to size/type; 39,653 sq.; storage; 1+ month vacant; contact Army for more information.

9002 Property Number: 21201440010

Hunter Army Airfield

Hunter Army Airfield GA 31406

Status: Underutilized

Comments: off-site removal only; no future agency need; relocation difficult due to type; 221 sq. ft.; 12+ months vacant; poor conditions; asbestos; contact Army for more information.

5 Buildings Property Number: 21201440013

Fort Benning

Ft. Benning GA 31905

Location:

8744; 8780; 8782; 8787; 9045

Status: Underutilized

Comments: off-site removal only; no future agency need; sq. ft. varies; poor conditions; contact Army for more information.

Building 8510 Property Number: 21201440014

5037 Moye Rd.

Fort Benning GA 31905

Status: Unutilized

Comments: off-site removal only; no future agency need; 10,800 sq. ft.; relocation difficult due to size/type; 8+ yrs.-old; poor conditions; contact Army for more information.

2 Buildings Property Number: 21201440016

Fort Benning

Ft. Benning GA 31905

Location: 9208; 9211

Status: Underutilized

Comments: off-site removal only; no future agency need; relocation difficult due to size/ type; sq. ft. varies; poor conditions; secured area; contact Army for more information.

Hawaii

3377Z Property Number: 21201210054

Schofield Barracks

Wahiawa HI 96786

Status: Unutilized

Comments: off-site removal only; 196 sf.; current use: transformer bldg.; poor conditions—needs repairs.

Bldg. 00208 Property Number: 21201210078

Dillingham Military

Waialua HI

Status: Unutilized

Comments: offsite removal only; 480 sq. ft.; recent use: hutmet.

Bldg. 0300B Property Number: 21201210083

308 Paalaa Uka Pupukea

Wahiawa Co: Honolulu HI 96786

Status: Unutilized

Comments: off-site removal only; 114 sf.; current use: valve house for water tank; fair conditions.

12 Bldgs. Property Number: 21201220009

Schofield Barracks

Wahiawa HI

Location: 2509, 2510, 2511, 2512, 2513, 2514, 2516, 2517, 3030, 3031, 3032, 3035

Status: Unutilized

Comments: off-site removal only; sf. varies; usage varies; storage; good conditions.

A0300 Property Number: 21201230009

308 Paalaa Uka Pupukea Rd.

Helemano

Wahiawa HI 96786

Status: Unutilized

Comments: off-site removal only; 17.25 X 21ft.; water storage.

2 Buildings Property Number: 21201230049

Schofield Barracks

Wahiawa HI 96786

Location: M3010, QRAMP

Status: Unutilized

Comments: off-site removal only; sf. varies; repairs needed; secured area; contact Army re: accessibility requirements.

2 Buildings Property Number: 21201230054

553/537 Airdrome Rd.

Wahiawa HI 96786

Location: 1001, 1005

Status: Unutilized

Comments: off-site removal only; sf. varies; use: shed & shelter; poor conditions; abandoned—need repairs.

Bldg. 1536 Property Number: 21201230060

Ft. Shafter

Honolulu HI 96819

Status: Unutilized

Comments: off-site removal only; 2,117sf.; vehicle storage; need repairs.

6 Properties Property Number: 21201240027

Schofield Barracks

Wahiawa HI 96786

Location: 24,1005, 2276, B0886, M3010, QBAMP

Status: Unutilized

Comments: Off-site removal only, sf. varies; poor conditions, contact Army for information on accessibility removal and specific details on a particular property.

Buildings 1421 & 1422 Property Number: 21201310046

510 CW2 Latchum Rd.

Wahiawa HI 97686

Status: Underutilized

Comments: off-site removal only; sf. varies; office & toilet; fair conditions; military reservation.

Buildings 3363, 3366, & 3371 Property Number: 21201310047

Schofield Barracks

Wahiawa HI 96786

Status: Unutilized

Comments: off-site removal only; sf. varies; abandoned; 230 mons. vacant; transformer bldgs.

B0088 Property Number: 21201310048

Kilauea Military Reser.

HNP HI 96718

Status: Unutilized

Comments: off-site removal only; 100 sf.; pollutant catch basin; poor conditions.

D0088 Property Number: 21201310049

Schofield Barracks

HNP HI 96718

Status: Unutilized

Comments: off-site removal only; 100 sf.; pollutant catch basin; poor conditions.

Building A0750 Property Number: 21201330038

613 Ayers Ave. (Schofield Barracks)

Wahiawa HI 96786

Status: Unutilized

Comments: off-site removal only; no future agency need; 512 sf.; storage; 46 yrs.-old; poor conditions; contact Army for more info.

00038 Property Number: 21201410007

Pohakuloa Training Area

Hilo HI 96720

Status: Unutilized

Comments: off-site removal only; 102 sq. ft.; storage; 49+ yrs.-old; poor conditions; contact Army for more information.

Navy

Building 241 Property Number: 77201410003

Marine Corps Base

Kaneohe HI 96863

Status: Excess

Comments: off-site removal only; 1,296 sq. ft.; 70+ yrs.-old; storage; metal siding & roofing is heavily corroded; contact Navy for more information.

Army

Idaho

Bldg. 00110 Property Number: 21200740134

Wilder

Canyon ID 83676

Location: Tooele Army Depot

Status: Underutilized

Comments: re-determination: off-site removal; 5,310 sf.; general admin./barracks; 12 mons. vacant; major repairs needed; asbestos; w/in restricted area; contact Army for info. on accessibility/removal reqs.

R1A11 Property Number: 21201320005

16 Miles South

Boise ID 83634

Status: Excess

Comments: off-site removal only; 1,040 sf., dilapidated, repairs a must, temp. shelter, 9 months vacant, has hanta virus presence.

R1A13 Property Number: 21201320015

16 Miles South

Boise ID 83634

Status: Excess

Comments: off-site removal only; 1,040 sf.; temp. shelter; 9 months vacant; dilapidated; Hanta virus; repairs a must.

R1A10 Property Number: 21201320041

16 Miles South

Boise ID 83634

Status: Excess

Comments: off-site removal only; 1,040 sf.; dilapidated; repairs a must; 9 months vacant; Hanta virus.

R1A12 Property Number: 21201320042

16 Miles South

Boise ID 83634

Status: Excess

Comments: off-site removal only; 1,040 sf.; temp. shelter; 9 months vacant; dilapidated; repairs a must; Hanta virus.

R1A15 Property Number: 21201320043

16 Miles South

Boise ID 83634

Status: Excess

Comments: off-site removal only; 1,040 sf.; temp. shelter; 9 months vacant; dilapidated; Hanta virus; repair a must.

COE

2 Buildings Property Number: 31201420010

Lucky Peak Dam & Lake

Boise ID 83716

Location: Vault toilet w/roof; vault toilet w/out roof

Status: Unutilized

Comments: off-site removal; no future agency need; less than 250 sq. ft.; contact COE for more information.

Army

Illinois

6 Buildings Property Number: 21201410040

Granite City USARC

Granite City IL 62040

Location: 401 (3,194 sq. ft.); 402 (4,913 sq. ft.); 403 (1,474 sq. ft.); 413 (739 sq. ft.); 434 (249 sq. ft.); 416 (1,387 sq. ft.)

Status: Unutilized

Comments: off-site removal only; no future agency need; dissemble may be required; poor conditions; secured area; contact Army on a specific property & accessibility/removal requirements.

2 Buildings Property Number: 21201410041

Phillip H. Sheridan Reserve Center

Ft. Sheridan IL 60037

Location: 564 (4,840 sq. ft.); 5659840 sq. ft.)

Status: Underutilized

Comments: off-site removal only; no future agency need; dissemble may be required; fair conditions; asbestos; secured area; contact Army for more info. on a specific property & accessibility/removal reqs.

2 Buildings Property Number: 21201410042

Joliet USARC/JTA

Elwood IL 60421

Location: JT837 (4,000 sq. ft.); JT834 (4,000 sq. ft.)

Status: Unutilized

Comments: off-site removal only; no future agency need; dissemble may be required; poor conditions; contact Army for more info. on a specific property & accessibility/removal reqs.

JT836 Property Number: 21201410043

Joliet USARC/JTA

Elwood IL 60421

Status: Unutilized

Comments: off-site removal only; 4,000 sq. ft.; no future agency need; dissemble may be required; 47+ yrs.-old; storage; poor conditions; secured area; contact Army re: accessibility/removal reqs.

COE

Peria Radio Repeater Site Property Number: 31201420004

Btw. Spring Creek & Caterpillar Ln.

Peoria IL

Status: Excess

Comments: pre-1978; 8 × 12 equipment storage shed; repairs needed; contact COE for more information.

Energy

Trailer 159 Property Number: 41201410007

Fermi National Accelerator Lab

Batavia IL 60510

Status: Excess

Comments: off-site removal only; 980 sq. ft.; 23+ yrs.-old; repairs needed; secured area; contact Energy for accessibility/removal requirements.

25 Blackhawk-Lab 8 House Property Number: 41201410010

Fermi Nat'l Accelerator Lab

Batavia IL 60510

Status: Excess

Comments: off-site removal only; secured area; contact Energy for more information.

GSA

Land

FAA Outer Marker Property Number: 54201430004

5549 Elizabeth Place

Rolling Meadows IL

Location: Landholding Agency; FAA; Disposal Agency; GSA

Status: Excess

Comments: 9,640 sq. ft.; 12+ months vacant; outer marker to assist planes landing at O'Hare Airport; contact GSA for more information.

GSA Number: I-U-IL-807

Energy

Building

Indiana

Portakamp 77538—D0 Property Number: 41201410011

Fermi National Accelerator Laboratory

Batavia IN 60510

Status: Excess

Comments: off-site removal only; relocation may be difficult due to the structure type; 4,140 Sq. Ft.; office ; secured area; contact Energy for more information.

Army

Iowa

Y11Q0 Property Number: 21201330060

Camp Dodge

Johnston IA 50131

Status: Unutilized

Comments: 3,076 sf.; family housing; 816+months vacant; deteriorated; secured area; escort required; contact Army for accessibility requirements.

Y10Q0 Property Number: 21201330061

Camp Dodge

Johnston IA 50131

Status: Unutilized

Comments: 3,076 sf.; family housing; 816+months vacant; deteriorated; secured area; escort required; contact Army for info.; accessibility requirements.

2 Buildings Property Number: 21201330064

Camp Dodge

Johnston IA 50131

Location: Y1200 & TC030

Status: Unutilized

Comments: 1,686 & 1,026 sf. respectively; garage; deteriorated; secured area; escort required; contact Army for accessibility requirements.

COE

3 Buildings; CENWK-of-RA Property Number: 31201430006

Rathbun Lake, Rolling Cove Bldg.

Junction of 160the Ave, & 435 St.

Mystic IA 52544

Location: #70003 Property ID #29388; #7004 Property ID #29389: #70005 Property ID #29390.

Status: Underutilized

Comments: Off-site removal only no future agency need; sq. ft. varies; deteriorations conditions; contact COE for more information on a specific property.

Army

Kansas

Building 00322 Property Number: 21201310050

Marshall Ave.

Ft. Riley KS 66442

Status: Unutilized

Comments: off-site removal only; 6,000 sf.; Admin.; general purpose; deteriorating conditions; water damage; located on installation secured airfield; contact Army for more info.

Building 9109 Property Number: 21201310051

Mallon Rd.

Ft. Riley KS 66442

Status: Unutilized

Comments: off-site removal only; 128 sf.; latrine; deteriorating conditions; located on controlled area; contact Army for more info.

Building 00620 Property Number: 21201320014

Mitchell Terr.

Ft. Riley KS 66442

Status: Excess

Comments: off-site removal only; 12,640 sf.; lodging; deteriorating; asbestos.

Building 09098 Property Number: 21201320016

Vinton School Rd.

Ft. Riley KS 66442

Status: Excess

Comments: off-site removal only; 120 sf.; guard shack; fair/moderate conditions.

Building 07856 Property Number: 21201320017

Drum St.

Ft. Riley KS 66442

Status: Excess

Comments: off-site removal only; 13,493 sf.; dining facility; deteriorating; asbestos.

Building 07636 Property Number: 21201320018

Normandy Dr.

Ft. Riley KS 66442

Status: Excess

Comments: off-site removal only; 9,850 sf.; deteriorating; asbestos.

Building 05309 Property Number: 21201320019

Ewell St.

Ft. Riley KS 66442

Status: Excess

Comments: off-site removal only; 23,784 sf.; lodging; deteriorating; asbestos.

Building 00918 Property Number: 21201320020

Caisson Hill Rd.

Ft. Riley KS 66442

Status: Excess

Comments: off-site removal only; 3,536 sf.; admin. general purpose; deteriorating; possible contamination; secured area; however, prior approval to access is needed; contact Army for more info.

Building 00621 Property Number: 21201320021

Mitchell Terr.

Ft. Riley KS 66442

Status: Excess

Comments: off-site removal only; 12, 640 sf.; lodging; deteriorating; asbestos.

Building 7610 Property Number: 21201410049

Fort Riley

Fort Riley KS 66442

Status: Excess

Comments: off-site removal only; may not be feasible to relocate due to sq. ft./type of structure; 41,892 sq. Ft. barracks contact Army for more information.

8 Buildings Property Number: 21201420002

Fort Riley

610 Warrior Rd.

Fort Riley KS 66442

Location: 610, 7610, 7614, 7616, 7842, 7846, 7850, 8063

Status: Excess

Comments: Off-site removal only; major repairs needed, mold and asbestos; secured area; contact Army for information on a specific property and accessibility/removal request.

502 Property Number: 21201430009

Fort Riley

Fort Riley KS 66442

Location: 502

Status: Excess

Comments: off-site removal only; 316 sq. ft.; office; structure type: Police Station; 55+ years old; fair condition; contact Army for more information.

COE

Shower Latrine Property Number: 31201420019

Riverside Park

Sylvan Grove KS 67481

Status: Underutilized

Comments: off-site removal only; no future agency need; 612 sq. ft.; fair conditions; contact COE for more info.

Army

Kentucky

Fort Knox Property Number: 21201110011

Eisenhower Avenue

Fort Knox KY 40121

Location: Bldgs.: 06559, 06571, 06575, 06583, 06584, 06585, 06586

Status: Unutilized

Comments: off-site removal only; multiple bldgs. w/various sq. footage (2,578-8,440 sq. ft.), current use varies (classroom—dental clinic), lead base paint, asbestos & mold identified.

Fort Knox, 10 Bldgs. Property Number: 21201110012

Bacher Street

2nd Dragoons Rd & Abel St

Fort Knox KY 40121

Location: Bldgs.: 06547, 06548, 06549, 06550, 06551, 06552, 06553, 06554, 06557, 06558,

Status: Unutilized

Comments: off-site removal only, multiple bldgs. w/various sq. footage (8,527-41,631 sq. ft.)lead base paint, asbestos & mold identified in all bldgs. Current use varies.

Fort Knox, 10 Bldgs. Property Number: 21201110015

Eisenhower Ave

Fort Knox KY 40121

Location: Bldgs.: 06535, 06536, 06537, 06539, 06540, 06541, 06542, 06544, 06545, 06546

Status: Unutilized

Comments: off-site removal only, multiple bldgs. w/various sq. ft. (2,510-78,436 sq. ft.) lead ba010 paint, asbestos & mold has been identified in all bldgs. Current use varies.

11 Bldgs. Property Number: 21201140002

Ft. Knox

Ft. Knox KY 40121

Location: 02422, 02423, 02424, 02425, 02956, 02960, 00173, 02197, 02200, 00097, 00098

Status: Unutilized

Comments: off-site removal only; possible lead based paint, asbestos, and mold in all bldgs.; sq. ft. varies; current use: office.

5 Bldgs. Property Number: 21201140003

Ft. Knox

Ft. Knox KY 40121

Location: 02317, 02323, 02324, 02349, 02421

Status: Unutilized

Comments: off-site removal only; possible lead base paint, asbestos, and mold; sq. ft. varies; current use: office.

10 Bldgs. Property Number: 21201140016

Ft. Knox

Ft. Knox KY 40121

Location: 120, 161, 166, 171, 101, 114, 115, 116, 117, 1196

Status: Unutilized

Comments: off-site removal only; sq. ft. varies; current use: office space to storage; possible asbestos and mold.

18 Bldgs. Property Number: 21201140032

Ft. Knox

Ft. Knox KY 40121

Location: 51, 52, 70, 73, 74, 76, 2961, 2963, 2964, 2969, 2970, 2971, 2972, 2973, 2974, 2975, 2979, 2316

Status: Unutilized

Comments: off-site removal only; possible asbestos, mold, and lead base paint; sq. ft. varies; current use: office.

12 Bldgs. Property Number: 21201140033

Ft. Knox

Ft. Knox KY 40121

Location: 77, 78, 80, 81, 85, 86, 92, 94, 96, 9248, 2995, 2996

Status: Unutilized

Comments: off-site removal only; possible mold, asbestos, and lead base paint; sq. ft. varies; current use: office to storage.

Bldg. 2980 Property Number: 21201140078

Ft. Knox

Ft. Knox KY 40121

Status: Unutilized

Comments: off-site removal only; 6,900 sq. ft.; current use: office; possible asbestos and mold.

Bldg. 1197 Property Number: 21201140079

Ft. Knox

Ft. Knox KY 40121

Status: Unutilized

Comments: off-site removal only; 2,969 sq. ft.; current use: office; possible lead base paint, asbestos, and mold.

23 Bldgs. Property Number: 21201210034

Ft. Knox

Ft. Knox KY 40121

Location: 6097, 6098, 6099, 6113, 6114, 6115, 6116, 6118, 6120, 6121, 6123, 6124, 6614, 6615, 6616, 7107, 9209, 9215, 9231, 9254, 9256, 9361, 9619

Status: Unutilized

Comments: off-site removal only; sq. ft. varies, current use: varies; poor conditions- need repairs; lead, mold, and asbestos identified.

20 Bldgs. Property Number: 21201210035

Ft. Knox

Ft. Knox KY 40121

Location: 45, 46, 64, 75, 79, 107, 114, 155, 202, 205, 299, 1373, 1997, 2319, 2350, 3007, 6033, 6034, 6035, 6036

Status: Unutilized

Comments: off-site removal only; sq. ft. varies, current use: varies; poor conditions- need repairs; lead, mold, and asbestos identified.

5 Bldgs. Property Number: 21201210036

Ft. Knox

Ft. Knox KY 40121

Location: 6038, 6039, 6040, 6093, 6094

Status: Unutilized

Comments: off-site removal only; sq. ft. varies, current use: varies; poor conditions- need repairs; lead, mold, and asbestos identified.

22 Bldgs. Property Number: 21201220020

Ft. Knox

Ft. Knox KY 40121

Location: 79, 204, 1610, 1996, 2955, 2959, 2965, 2980, 2991, 6531, 6533, 6560, 6561, 6563, 6564, 6565, 6566, 6592, 6594, 9183, 9319, 9320

Status: Unutilized

Comments: off-site removal only; sf varies; usage varies; need repairs; lead and asbestos identified; need remediation.

15 Buildings Property Number: 21201230030

Ft. Knox

Ft. Knox KY 40121

Location: 2991, 3006, 6127, 7345, 7346, 9254, 9264, 9294, 9302, 9311, 9315, 9335, 9427, 9503, 9504

Status: Unutilized

Comments: use: maintenance; extremely poor conditions; contamination identified; contact Army for further details & accessibility requirements.

10 Buildings Property Number: 21201230031

Ft. Knox

Ft. Knox KY 40121

Location:

9505, 9506, 9507, 9508, 9509, 9617, 9675, 9681, 9706, 9707

Status: Unutilized

Comments: sf. varies; extremely poor conditions; contamination identified; contact Army for further details & accessibility requirements.

5 Buildings Property Number: 21201420017

Fort Campbell

3069 Bastogne Avenue

Fort Campbell KY 42223

Location: 03069;03932;03071;06992;06990

Status: Excess

Comments: off-site removal only; fair conditions; secured area; contact Army for more information on a specific property and accessibility.

3112 Property Number: 21201430038

Fort Campbell

Fort Campbell KY 42223

Status: Unutilized

Comments: 3,500 sq. ft.; classroom. poor condition; asbestos & lead base paint; secured area; contact Army for more information.

3032 Property Number: 21201430039

Fort Campbell

Fort Campbell KY 42223

Status: Unutilized

Comments: 3,899 sq. ft., chapel; poor condition; asbestos & lead base paint; secured area; contact Army for more information.

03305 Property Number: 21201430040

Fort Campbell

Fort Campbell KY 42223

Status: Excess

Comments: 3,500 sq. ft.; office; fair condition; asbestos in floor tiles; secured area; contact Army for more information.

Air Force

Louisiana

Building 117 Property Number: 18201330046

Naval Air Station Joint Reserve Base

New Orleans LA 70143

Status: Excess

Comments: 3,975 sf.; storage; deteriorated; secured area; background check/pass required; contact Air Force for more info. re.; accessibility reqs.

Building 019 Property Number: 18201330050

Naval Air Station joint Reserve Base

New Orleans LA 70143

Status: Excess

Comments: 3,038 sq. ft.; storage; deteriorated; secured area; official ID required; contact Air Force for more information.

Army

B-8248 Property Number: 21201210069

Ft. Polk

Ft. Polk LA 71459

Status: Underutilized

Comments: 3,141 sf.; current use: Admin. Bldg.; poor conditions-need repairs.

B-8401 Property Number: 21201210070

Ft. Polk

Ft. Polk LA 71459

Status: Underutilized

Comments: 3,141 sf.; current use: Admin. Bldg.; poor conditions-need repairs.

Louisiana

21 Buildings Property Number: 21201230034

Polk

Ft. Polk LA 71459

Location: 9515, 9537, 9554, 9570, 9593, 9594, 9601, 9602, 9603, 9604, 9607, 9609, 9618, 9619, 9666, 97 03, 9741, 9744, 9751, 9753, 9755

Status: Underutilized

Comments: off-site removal only; sf. varies; use: varies; poor conditions; contact Army for further details re: a specific property.

18 Buildings Property Number: 21201230035

Polk

Ft. Polk LA 71459

Location: 9764, 9765, 9773, 9793, 9794, 9797, 9803, 9812, 9818, 9830, 9836, 9837, 9840, 9854, 9913, 9914, 9917, 9920

Status: Underutilized

Comments: off-site removal only; sq.ft. varies; use: varies; poor conditions;contact Army for further details re: a specific property.

7 Building Property Number: 21201330044

Fort Polk

Fort Polk LA 71459

Location: 00916, 03313, 03314, 03315, 3316, 3320, 3323

Status: Underutilized

Comments: off-site removal only; sf. varies; no future agency need; poor conditions; contact Army for more info. on a specific property & removal reqs.

13 Buildings Property Number: 21201330056

Fort Polk

Fort Polk LA 71459

Location: 3335, 3341, 3342, 3344, 3348, 4798, 7144, 7192, 7193, 7194, 7199, 08091, 8092

Status: Underutilized

Comments: off-site removal only; no future agency need; sf. varies; storage to picnic/rec. shelter; poor conditions; contact Army for more info. on a specific property and removal requirements.

Agriculture

Maryland

Building 1092 Property Number: 15201410023

1203B01092/08940 RUID#03.52514

Beltsville MD 20705

Status: Excess

Comments: 28 sq. ft.; 39+ yrs.-old; needs roof; secured area; contact Agriculture for more info.

Building 049—Seed Quality Property Number: 15201410034

1200B0049/08940 RPUID #03.52074

Beltsville MD 20705

Status: Excess

Comments: 1,564 sq. ft.; storage; 52+ yrs.-old; major renovations required; contact Agriculture for more information.

Building 085C, Property Number: 15201430006

Storage Shed #085C

1202B0085C/08940 RPUID #03.52231

Beltsville MD 20705

Status: Excess

Comments: 1,543 sq. ft. (3400); Storage; need new roof; HVAC/electrical/plumbing repairs needed; secured area; contact Agriculture for more information.

Building 053, Property Number: 15201430007

Biological Greenhouse #053

1200B00053/08940 RPUID #03.52077

Beltsville MD 20705

Status: Excess

Comments: 1,453 sq. ft. (3400); storage; HVAC/electrical/plumbing repairs needed; secured area; contact Agriculture for more information.

Building 1206, Property Number: 15201430008

Animal Building #1206

1203B01206/08940 RPUID #03.52604

Beltsville MD 20705

Status: Excess

Comments: 1,543 sq. ft. (3400); storage; HVAC/electrical/plumbing repairs needed; secured area; contact Agriculture for more information.

Building 1420, Property Number: 15201430009

Laboratory #1420

1203B01420/08940 RPUID #03.52707

Beltsville MD 20705

Status: Excess

Comments: 1,543 sq. ft. (3,400); lab; new roof need; HVAC/electrical/plumbing repairs needed; secured area; contact Agriculture for more information.

Building 1145, Property Number: 15201430010

Animal Building #1145

1203B01145/08940 RPUID #03.52549

Beltsville MD 20705

Status: Excess

Comments: 1,543 sq. ft. (3,400); HVAC/electrical/plumbing repairs needed; secured area; contact Agriculture for more information.

Building 018, Residence 018 Property Number: 15201430011

RPUID: 03.52045; 1200B00018/08940

Beltsville MD 02705

Status: Excess

Comments: 1,543 sq. ft. (3,400); residential; fair structural condition; new roof needed; HVAC/utility system needed; secured area; contact Agriculture for more information.

Building 1204, Property Number: 15201430012

Animal Pen #1204

1203B01204/08940 RPUID #03.52602

Beltsville MD 20705

Status: Excess

Comments: 1,543 (3400); storage; repairs needed; secured area; contact Agriculture for more information.

Building 465—Screen Building Property Number: 15201430013

1203B00465/08940 RPUID #03.52452

Beltsville MD 20705

Status: Excess

Comments: 4,404 sq. ft.; greenhouse/research; new roof needed; HVAC/plumbing/electrical repairs needed; secured area; contact Agriculture for more information.

Army

Bldg. 219 Property Number: 21200140078

Ft. George G. Meade

Ft. Meade Co: Anne Arundel MD 20755

Status: Unutilized

Comments: 8142 sq. ft., presence of asbestos/lead paint, most recent use—admin., off-site use only.

Bldg. 06186 Property Number: 21201110026

Ft. Detrick

Fredrick MD 21702

Status: Unutilized

Comments: off-site removal only, 14,033 sq. ft., current use: communications ctr., bldg. not energy efficient but fair condition.

Bldg. 01692 Property Number: 21201110028

Ft. Detrick

Fredrick MD 21702

Status: Unutilized

Comments: off-site removal only, 1,000 sq., current use; communications ctr., bldg. is not energy efficient but in fair condition.

3 Buildings Property Number: 21201310061

Ft. George G. Meade

Ft. Meade MD 20755

Location: 08475, 8487, 09830

Status: Unutilized

Comments: off-site removal only; sf. varies; poor conditions; restricted area; contact Army for accessibility/removal reqs.

5 Buildings Property Number: 21201330008

Ft. George G. Meade

Ft. George MD 20755

Location: 4, 239, 700, 2790, 8608

Status: Unutilized

Comments: off-site removal only; no future agency need; sf. varies; fair to deteriorating conditions; secured area; contact Army re. info. on a specific property & accessibility/removal reqs.

4 Buildings Property Number: 21201420026

Aberdeen Proving Ground

APG MD 21010

Location: E1375, E3244, E3306, E3615

Status: Unutilized

Comments: Off-site removal only; no future agency need; secured area; contact Army for more info. on a specific property & accessibility/removal reqs.

Land

2 acres Property Number: 21200640095

Fort Meade

Odenton Rd/Rt 175

Ft. Meade MD 20755

Status: Unutilized

Comments: light industrial.

16 acres Property Number: 21200640096

Fort Meade

Rt 198/Airport Road

Ft. Meade MD 20755

Status: Unutilized

Comments: light industrial.

E6000 & E6100 Property Number: 21201310063

Aberdeen Proving Ground

Aberdeen MD 21005

Status: Unutilized

Comments: water dam currently located on properties; restricted area; contact Army for more information regarding properties.

LANDE Property Number: 21201310064

Aberdeen Proving Ground

Aberdeen MD 21005

Status: Unutilized

Comments: 128 acres; fair conditions; restricted area; contact Army for more info.

Navy

Building

D70 Property Number: 77201420016

NSF Indian Head

4121 N. Jackson Rd.

Indian Head MD 20640

Status: Unutilized

Comments: off-site removal only; no future agency need; 8,319 sq. ft.; semi-permanent; office; 132+ months vacant; poor conditions; secured area; contact Navy for more info. on accessibility & removal reqs.

Coast Guard

Massachusetts

3 Buildings Property Number: 88201440001

USCG Base Cape Cod

Bourne MA 02542

Location: 5206; 5412; 5386

Status: Excess

Comments: off-site removal only; relocation may be difficult due to size/type; sq. ft. varies; housing; poor conditions; contact Coast Guard for more information.

Agriculture

Michigan

Bergland Middle Building Property Number: 15201430017

Bergland Cultural Center Site

Bergland MI 49910

Status: Unutilized

Comments: 1,025 sq. ft., storage; 120+ months vacant; deteriorating; building on National Register Site; contact Agriculture for more information.

Ontonagon Ranger House Property Number: 15201430018

1205 Rockland Road

Ontonagon MI 49953

Status: Unutilized

Comments: 1,570 sq. ft., residential; 96+ months vacant; poor conditions; contact Agriculture for more information.

Air Force

3 Buildings Property Number: 18201220020

Selfridge ANGB

Selfridge MI 48045

Location: 326,780,710

Status: Unutilized

Comments: off-site removal only; sf varies; office/school/barracks;fair conditions; need repairs.

Alpena Co Reg Apt Property Number: 18201430028

5884 A Street; Bulling 4012

Alpena MI 49707-8125

Status: Unutilized

Comments: off-site removal only; no future agency need; 2,000 sq. ft.; office/storage; deteriorated secured area; contact Air Force for more information.

Army

6 Buildings Property Number: 21201340026

Detroit Arsenal

Warren MI 48092

Location: WH001 (4,680 sq. ft.); WH002 (3,910 sq. ft.); WH003 (5,256 sq. ft.); WH004 (3,840 sq. ft.) WH005 (5,236 sq. ft.); WH006 (5,940 sq. ft.)

Status: Unutilized

Comments: off-site removal only; no future agency need; residential; repairs needed; contamination; secured area; contact Army for more information on a specific property accessibility requires.

6 Buildings Property Number: 21201340027

Detroit Arsenal

Warren MI 48092

Location: WH013(4,680 sq.); WH014(5,236 sq.); WH015 (3,000 sq.); WH016(3,840 sq.); WH017(3,000 sq.); WH018 (5,940 sq.)

Status: Unutilized

Comments: off-site removal only; no future agency need; residential; repairs needed; contamination; secured area; contact Army for more information on a specific property & accessibility requirements.

6 Building Property Number: 21201340028

Detroit Arsenal

Warren MI 48092

Location: WH007(3,840 sq. ft.); WH008 (5,940 sq. ft.); WH009 (5,236 sq. ft.); WH010 (4,680 sq. ft.); WH011 (5,236 sq. ft.); WH012 (5,236 sq. ft.)

Status: Unutilized

Comments: off-site removal only; no future agency need; residential; repairs needed; contamination; secured area; contact Army for more information on a specific property and accessibility requires.

6 Buildings Property Number: 21201340029

Detroit Arsenal

Warren MI 48092

Location: WH019(4,680 sq.); WH020(5,940 sq.); WH021(5,940 sq.); WH022(4,680 sq.); WH023(5,940 sq.); WH024(1,760 sq.)

Status: Unutilized

Comments: off-site removal only; no future agency need; residential; repairs needed; contamination; secured area; contact Army for more information on a specific property & accessibility requirements.

4 Buildings Property Number: 21201340031

Detroit Arsenal

Warren MI 48092

Location: WH025 (1,760 sq.); WH026 (1,760 sq. ft.); WH027 (1,760 sq.); WH028(400 sq.) Status: Unutilized

Comments: off-site removal only; no future agency need; residential; repairs needed; contamination; secured area; contact Army for more information on a specific property & accessibility requirements.

Agriculture

Minnesota

South Annex Building Property Number: 15201420014

200 Ash Ave., NW

Cass Lake MN 56633

Status: Unutilized

Comments: off-site removal only; no future agency need; 1,950 sq. ft.; 96+ months vacant; fair conditions; office; contact Agriculture for more information.

Army

18 Bldgs. Property Number: 21201210059

1245 Hwy 96 West

Arden Hills Army TRNG Site

Arden Hills MN 55112

Location: 12155, 12156, 12157, 01200, 01201, 01202, 01203, 01204, 01205, 01206, 04202, 11218, 11219, 11220, 11221, 11222, 11223, 04203

Status: Unutilized

Comments: off-site removal only; sf. varies; current use: storage; poor conditions-need repairs.

Agriculture

Mississippi

Modular #3; 640400B029 Property Number: 15201410003

RPUID: 03.806

13762 Small Fruits Research Station

Poplarville MS 39470

Status: Unutilized

Comments: off-site removal only; no future agency need; 1,440 sq. ft., fair conditions; contact Agriculture for more info.

Air Force

Building 112 Property Number: 18201330041

CRTC Gulfport

Gulfport MS 39507

Status: Excess

Comments: 90 sf.; ATM bldg.; good conditions; contact Air Force for more info.

COE

Building No. 591—Property Number: 31201420007

Registration House

Enid Lake

Enid Lake MS

Status: Unutilized

Comments: 400 sq. ft.; registration house for Chickasaw Hill Rec. area; 228+ months vacant; extensive deterioration; major repairs needed; contact COE for more information.

Army

Missouri

12 Bldgs. Property Number: 21200410110

Fort Leonard Wood

Ft. Leonard Wood Co: Pulaski MO 65743-8944

Location: 07036, 07050, 07054, 07102, 07400, 07401, 08245, 08249 08251, 08255, 08257, 08261.

Status: Unutilized

Comments: 7152 sq. ft. 6 complex housing quarters, potential contaminants, off-site use only.

6 Bldg. Property Number: 21200410111

Fort Leonard Wood

Ft. Leonard Wood Co: Pulaski MO 65743-8944

Location: 07044,07106,07107,08260,08281,08300

Status: Unutilized

Comments: 9520 sq. ft., 8 complex housing quarters, potential contaminants, off-site use only.

15 Bldgs. Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq. ft., 4 complex housing quarters, potential contaminants, off-site use only.

Bldgs. 08283, 08285 Property Number: 21200410113

Fort Leonard Wood

Ft. Leonard Wood Co: Pulaski MO 65743-8944

Status: Unutilized

Comments: 2240 sq. ft., 2 complex housing quarters, potential contaminants, off-site use only.

15 Bldgs. Property Number: 21200410114

Fort Leonard Wood

Ft. Leonard Wood Co: Pulaski MO 65743-0827

Location: 08267, 08269, 08271, 08273, 08275, 08277, 08279, 08290 08296, 08301

Status: Unutilized

Comments: 4784 sq. ft., 4 complex housing quarters, potential contaminants, off-site use only.

Bldg. 09432 Property Number: 21200410115

Fort Leonard Wood

Ft. Leonard Wood Co: Pulaski MO 65743-8944

Status: Unutilized

Comments: 8724 sq. ft., 6-plex housing quarters, potential contaminants, off-site use only.

Bldgs. 5006 and 5013 Property Number: 21200430064

Fort Leonard Wood

Ft. Leonard Wood Co: Pulaski MO 65743-8944

Status: Unutilized

Comments: 192 sq. ft., needs repair, most recent use—generator bldg., off-site use only

Bldgs. 13210, 13710 Property Number: 21200430065

Fort Leonard Wood

Ft. Leonard Wood Co: Pulaski MO 65743-8944

Status: Unutilized

Comments: 144 sq. ft. each, needs repair, most recent use—communication, off-site use only.

13 Buildings Property Number: 21201410044

Weldon Springs USARC

St. Charles MO 63304

Location: 002S9 (490 sq. ft.); G0043 (1,840 sq. ft.); RN001 (7,500 sq. ft.); RN002 (102 sq. ft.); RN003 (450 sq. ft.); RN004 (1 sq. ft.); RN005 (800 sq. ft.); RN006 (320 sq. ft.); RN007 (1,650 sq. ft.); RN008 (266 sq. ft.); RN009 (400 sq. ft.); RN0010 (500 sq. ft.); S0009 (468 sq. ft.)

Status: Unutilized

Comments: off-site removal only; no future agency need; dissemble may be required; poor conditions; secured area; contact Army for on a specific property & accessibility/removal reqs.

COE

Restroom Shower House Property Number: 31201420009

RR3 Box 3559-D

Piedmont MO 63957

Status: Underutilized

Comments: off-site removal only; no future agency need; 208 sq. ft.; poor conditions; no roof on shower; contact COE for more information.

Masters Campground Property Number: 31201430012

16435 E Stockton Lake Dr.

Stockton MO 65785

Status: Underutilized

Comments: 41+ yrs. old; 416 sq. ft.; shower; deteriorated; restricted access; contact COE for more info.

Crabtree Cove Park #28835 Property Number: 31201430013

16435 E Stockton Lake Dr.

Stockton MO 65785

Status: Underutilized

Comments: 41+ yrs. old; 84 sq. ft.; wood structure; toilet; deterioration; contact COE for more info.

2 Restrooms Property Number: 31201440007

Mark Twain Lake Project Office

Monroe City MO 63456

Status: Underutilized

Comments: 62 & 72 sq. ft.; seasonal use; poor conditions; contact COE for more information.

Agriculture

Montana

Warehouse #2 Infra #2207 Property Number: 15201430014

Cabinet Ranger District Administrative Site

Trout Creek MT

Status: Excess

Comments: off-site removal only; 224 sq. ft.; storage; 60+ years old; very poor conditions; contact Agriculture for more information.

Army

Bldg. 00405 Property Number: 21200130099

Fort Harrison

Ft. Harrison Co: Lewis/Clark MT 59636

Status: Unutilized

Comments: 3467 sq. ft., most recent use—storage, security limitations.

Bldg. T0066 Property Number: 21200130100

Fort Harrison

Ft. Harrison Co: Lewis/Clark MT 59636

Status: Unutilized

Comments: 528 sq. ft., needs rehab, presence of asbestos, security limitations.

Air Force

Nevada

2 Buildings Property Number: 18201440019

Nellis AFB

Nellis NV 89191

Location: 727 (15,803 sq. ft.); 729 (19,137 sq. ft.)

Status: Unutilized

Comments: fair to moderate conditions; dorm; 38+ yrs.-old; asbestos; escort/base pass required to access; contact Air Force for more information.

7 Buildings Property Number: 18201440020

Nellis AFB

Nellis NV 89191

Location: 432; 10237; 10236; 10235; 589; 258; 415

Status: Underutilized

Comments: sq. ft. varies; fair to moderate conditions; asbestos; escort/base pass required to access; contact Air Force for more information.

New Jersey

4 Bldgs. Property Number: 21201220011

Picatinny Arsenal

Dover NJ 07806

Location: 1179,1179A,1179C,1179D

Status: Unutilized

Comments: off-site removal only; sf varies; usage varies; need repairs; contamination; remediation required; secured area; need prior approval to access property; contact Army for more details.

4 Building Property Number: 21201240026

Route 15 North

Picatinny Arsenal NJ 07806

Location: 3701,3702,3706,3709

Status: Unutilized

Comments: off-site removal only, sq. varies, moderate conditions, restricted area; contact Army for information on accessibility removal and specific details on a particular property.

Building 00063 Property Number: 21201310039

Picatinny Arsenal

Picatinny Arsenal NJ 07806

Status: Underutilized

Comments: off-site removal only; 44,000 sf.; storage; very poor conditions; w/in secured area; contact Army for accessibility/removal requirements.

Building 01186 Property Number: 21201310040

Pictinny Arsenal

Dover NJ 07806

Status: Unutilized

Comments: off-site removal only; 192 sf.; storage; very poor conditions; w/in restricted area; contact Army for info. on accessibility/removal requirements.

Building 03223 Property Number: 21201330046

Picatinny Arsenal

Dover NJ 07806-5000

Status: Unutilized

Comments: off-site removal only; no future agency need; 312 sf.; 102 yrs.-old; poor conditions; secured area; contact Army for more info.

New York

Bldg. 2218 Property Number: 21200510067

Stewart Newburg USARC

New Windsor Co: Orange NY 12553-9000

Status: Unutilized

Comments: 32,000 sq. ft., poor condition, requires major repairs, most recent use—storage/services.

7 Bldgs. Property Number: 21200510068

Stewart Newburg USARC

New Windsor Co: Orange NY 12553-9000

Location: 2122, 2124, 2126, 2128, 2106, 2108, 2104

Status: Unutilized

Comments: sq. ft. varies, poor condition, needs major repairs, most recent use—storage/services.

Bldg. 4802 Property Number: 21201010019

Fort Drum

Jefferson NY 13602

Status: Unutilized

Comments: 3300 sq. ft., most recent use—hdgts. facility, off-site use only.

Bldgs. 4813 Property Number: 21201010020

Fort Drum

Jefferson NY 13602

Status: Unutilized

Comments: 750 sq. ft., most recent use—wash rack, off-site use only.

Bldgs. 1240, 1255 Property Number: 21201010022

Fort Drum

Jefferson NY 13602

Status: Unutilized

Comments: various sq. ft., most recent use—vehicle maint. facility, off-site use only.

6 Bldgs. Property Number: 21201010023

Fort Drum

Jefferson NY 13602

Location: 1248, 1250, 1276, 2361, 4816, 4817

Status: Unutilized

Comments: various sq. ft., most recent use—storage, off-site use only.

Bldgs. 02700 and 22630 Property Number: 21201210080

Fort Drum

Fort Drum NY 13602

Status: Underutilized

Comments: off-site removal only; sf. varies; current use: varies; need repairs.

Bldg. 1345 Property Number: 21201220030

Ft. Drum

Ft. Drum NY

Status: Underutilized

Comments: off-site removal only; 7,219 sf.; vehicle maint. shop.; extensive repairs needed;secured area; need prior approval to access property.

Building 191 Property Number: 21201230005

First Street West

Ft. Drum NY 13602

Status: Unutilized

Comments: off-site removal only; 5,922 sf.; use: Admin.; extensive structural damage ; remediation required before occupying bldg.; secured area; contact Army to schedule appt. to access property.

5 Buildings Property Number: 21201230006

Ft. Drum

Ft. Drum NY 13601

Location: 1454,1456,2443,4890,4893

Status: Unutilized

Comments: off-site removal only; sf. varies; use; varies; extensive repairs needed due to age; secured area; contact Army re: details on accessing property.

Building 1560 Property Number: 21201240024

Rte. 293

West Point NY 10996

Status: Unutilized

Comments: off-site removal only, 4544 sf., storage severely damage from hurricane Irene, restricted area, contact Army on information on accessibility/removal.

2 Buildings Property Number: 21201320034

Wheeler-Sack Army

Ft. Drum NY 13602

Location: Bldgs. 2908 & 2909 are each 11,809 sf.

Status: Unutilized

Comments: no future Army use; off-site removal only; poor conditions; secured area; contact Army re: accessibility/removal requirements.

3 Buildings Property Number: 21201330011

Ft. Drum

Ft. Drum NY 13602

Location: 2150, 2190, 2360

Status: Underutilized

Comments: off-site removal only; no future agency need; sf. varies; poor conditions; secured area; contact Army re a specific property & accessibility/removal reqs.

Building 2022 Property Number: 21201330020

Wheeler Sack Army Airfield

Ft. Drum NY 13602

Status: Unutilized

Comments: off-site removal only; no future agency need; 115 sf.; communication ctr.; 12t months vacant; poor conditions; secure area; contact Army for accessibility/removal reqs.

3 Buildings Property Number: 21201340018

Fort Drum

Fort Drum NY 13602

Location: 2890 (560 sq.); 1388 (296 sq.); 4779 (296 sq.)

Status: Underutilized

Comments: off-site removal only; no future agency need; poor conditions; secured area; contact Army for more information on a specific property & accessibility requirements.

4012 Property Number: 21201340019

Railroad Street

Fort Drum NY 13602

Status: Unutilized

Comments: off-site removal only; no future agency need; 704 sq. ft.; scale house; built 1941; poor conditions; secured area; contact Army for more information.

01004 Property Number: 21201340038

Fort Drum

Watertown NY 13602

Status: Underutilized

Comments: off-site removal only; no future agency need; obstacle course; dissemble required to relocate; restricted area; contact Army for more info.

3 Buildings Property Number: 21201420010

Fort Drum

Fort Drum NY 13602

Location: 1395; 1495; 22639;

Status: Underutilized

Comments: off-site removal only; no future agency need; poor conditions; secured area; contact Army for more info. on a specific property & removal accessibility reqs.

705B Property Number: 21201430052

U.S. Army Garrison

West Point NY 10996

Status: Unutilized

Comments: off-site removal only; no future agency need; deconstruct to relocate; difficult to relocate due to size/type; poor conditions; contact Army for more info.

North Carolina

Building 42843 Property Number: 21201240034

Ft. Bragg

Ft. Bragg NC 28310

Location: 42843

Status: Underutilized

Comments: located in a secured area, public access is denied and no alternative method to gain access without compromising national security.

Building D1209 Property Number: 21201330069

4285 Gruber Road

Ft. Bragg NC 28308

Status: Unutilized

Comments: 15,327 sf; 21 yrs. old; extensive repairs needed; secured area; extensive background check required; contact Army for accessibility requirements.

D3039 Property Number: 21201330070

3912 Donovan Street

Ft. Bragg NC 28308

Status: Unutilized

Comments: 13,247 sf.; 42 yrs. old; dining facility; extensive repairs; extensive background check; secured area; contact Army for accessibility requirements.

5 Building Property Number: 21201340005

FT Bragg

FT Bragg NC 28308

Location: 570, 572, A5434, C5635, P3738

Status: Unutilized

Comments: sq. ft. varies; 50+ years; extensive repairs needed; secured area; background check and vehicle search required; contact Army for more information on a specific property and accessibility requirements.

COE

Well House at WRC, Property ID Property Number: 31201420001

#SAW FAL-16434

Hartwell Lake and Dam

Wake NC 27587

Status: Unutilized

Comments: off-site removal only; 36 sq. ft.; vacant; 34+ yrs. old; poor conditions; no future agency need; contact COE for more information.

Field Office, WRC, Property ID Property Number: 31201420002

#SAW FAL-16433

Hartwell Lake and Dam

Wake NC 27587

Status: Unutilized

Comments: off-site removal only; 209 sq. ft.; vacant; 34+ yrs.-old; poor conditions; no future agency need; contact COE for more information.

Army

Ohio

125 Property Number: 21201230025

1155 Buckeye Rd.

Lima OH 45804

Location: Joint Systems Manufacturing Center

Status: Underutilized

Comments: off-site removal only; 2,284 sf.; use: storage; poor conditions; asbestos identified; secured area; contact Army re: accessibility requirements.

Agriculture

Oklahoma

Greenhouse 13; RPUID 03.50709 Property Number: 15201420003

07334 Plant Science & Water Res.

Conservation Lab

Stillwater OK 74075

Status: Unutilized

Comments: 3,000 sq. ft.; 37+ yrs.-old; greenhouse; deteriorated; contact Agriculture for more information.

Air Force

Building 267 Property Number: 18201310039

7576 Sentry Blvd.

Tinker AFB OK 73145

Status: Unutilized

Comments: off-site removal only; 6,892 sf.; vehicle parking shed; fair conditions; restricted area; contact AF for info. on accessibility/removal requirements.

Building 1100 Property Number: 18201320024

7492 Patrol Road

Tinker AFB OK 73145

Status: Underutilized

Comments: off-site removal only; no future AF need; 5,471 sf.; maint. facility; fair/poor condition; controlled AF installation, contact AF for more info.

Building 944 Property Number: 18201320026

4600 Air Depot Blvd.

Tinker AFB OK 73145

Status: Underutilized

Comments: off-site removal only; no future AF need; 2,400 sf.; warehouse; fair/poor condition; controlled AF installation; contact AF for info. re: accessibility/removal.

Building 1111 Property Number: 18201330028

Tinker AFB

Tinker OK 73145

Status: Unutilized

Comments: off-site removal only; no future agency need; 231 sf.; utility bldg.; generally good conditions; secured area; contact Air Force for more info.

2 Buildings Property Number: 18201330029

Tinker AFB

Tinker OK 73145

Location: 1072,901

Status: Unutilized

Comments: off-site removal only; no agency need; poor conditions; secured area; contact Air Force for info. on a specific property & removal requirements.

Building 183 Property Number: 18201340001

Altus AFB AGGN

Altus OK 73523

Status: Unutilized

Comments: 167 sq. ft.; no bathroom; secured area; escort required each time to access property; asbestos; contact Air Force for more info.

280 Property Number: 18201420002

7481 Sentry Boulevard

Tinker AFB OK 73145

Status: Excess

Comments: off-site removal only; 19,034 sq. ft.; wing HQs; roof is in poor condition; secured area; contact for accessibility; removal request.

268 Property Number: 18201420008

7568 Sentry Boulevard

Tinker AFB OK 73145

Status: Underutilized

Comments: off-site removal only; no future agency need; 7,311 sq. ft.; air passenger terminal; roof needs repairing; secured area; contact AF for more info.

7 Buildings Property Number: 18201420050

Tinker AFB

Tinker AFB OK 73145

Location: 1064; 7043; 7014; 7012; 7011; 7010; 7009

Status: Unutilized

Comments: off-site removal only; no future agency need; poor conditions, secured area; contact AF for more information on a specific property & accessibility requirements.

Bldg. P-747 Property Number: 21200120120

Fort Sill

Lawton Co: Comanche OK 73503-5100

Status: Unutilized

Comments: 9232 sq. ft., possible asbestos/lead paint, most recent use—lab, off-site use only.

Bldg. P-842 Property Number: 21200120123

Fort Sill

Lawton Co: Comanche OK 73503-5100

Status: Unutilized

Comments: 192 sq. ft., possible asbestos/lead paint, most recent use—storage, off-site use only.

Bldg. P-1672 Property Number: 21200120126

Fort Sill

Lawton Co: Comanche OK 73503-5100

Status: Unutilized

Comments: 1056 sq. ft., possible asbestos/lead paint, most recent use—storage, off-site use only.

Army

Bldgs. 01509, 01510 Property Number: 21200920060

Fort Sill

Lawton OK 73501

Status: Unutilized

Comments: various sq. ft., most recent use—vehicle maint. shop, off-site use only.

Building 2867 Property Number: 21201310007

Craig Rd.

Ft. Sill OK 73503

Status: Unutilized

Comments: off-site removal only; 3,658 sf.; 6 mons. vacant; moderate conditions.

Building 954 Property Number: 21201310008

Quinette Rd.

Ft. Sill OK 73503

Status: Unutilized

Comments: off-site removal only; 3,571 sf.; Admin. General Purpose; 6 mons. vacant; moderate conditions.

26 Buildings Property Number: 21201330055

Fort Sill

Fort Sill OK 93503

Location: 2596, 2597, 2774, 2838, 2839, 2840, 2841, 2843, 2844, 2847, 2850, 2851, 2853, 2854, 2855, 2856, 2858, 2860, 2861, 2862, 2863, 2864, 2865, 2866, 2868, 2869

Status: Unutilized

Comments: off-site removal only; no future agency need; 6+ months vacant; sf. varies; contact Army for more info. on a specific property and removal requirements.

7 Buildings Property Number: 21201420030

Fort Sill

Fort Sill OK 73503

Location: 1541; 1760; 2602; 2960; 5727; 6021; 6449

Status: Unutilized

Comments: off-site removal only; no future agency need; repairs required; contact Army for more info. on a specific property removal reqs.

12 Buildings Property Number: 21201430051

Fort Sill

Ft. Sill OK

Location: 853; 854; 922; 1541; 1546; 1760; 2602; 6021; 6463; 6476; M5957; M7551

Status: Unutilized

Comments: off-site removal only; no future agency need; deconstruct to relocate; difficult to relocate due to type/size; moderate to poor conditions; contact Army for more information.

B1512 Property Number: 21201430059

Fort Sill

Ft. Sill OK 73503

Status: Unutilized

Comments: off-site removal only; no future agency need; 80 sq. ft.; vehicle maint. shop; 6+ months vacant; poor condition; contact Army for more information.

6256 Property Number: 21201430060

Fort Sill

Ft. Sill OK 73503

Status: Unutilized

Comments: off-site removal only; no future agency need; 6+ months vacant; poor condition; contact Army for more information.

COE

SWT—Keystone Lake Property Number: 31201440004

23115 West Wekiwa Road

Sand Springs OK 74063-9312

Status: Unutilized

Comments: off-site removal only; 27+ yrs. old; no future agency need; 327.96 sq. ft.; toilet; deterioration; extensive repairs required; contact COE for more information.

Keystone Lake Office Property Number: 31201440009

23115 West Wekiwa Road

Sand Springs OK 74063-9312

Location: 43430; 43431; 43498; 43499

Status: Unutilized

Comments: off-site removal only; no future agency need; 33 sq. ft.; poor conditions; contact COE for more information.

Agriculture

Oregon

Fiddler Mt. Telecom BLD Property Number: 15201430004

(1138.005181)

07663 ; 00; Redwood HWY

Kerby OR 97538

Status: Excess

Comments: 36 sq. ft.; 37+ years old; rodents and insect infestation; contact Agriculture for more information.

XX334 GB Grizzly Communication Property Number: 15201430020

Bldg. 1560.005181 076630 00

Agness OR 97406

Location: 25 sq.; shed; 39+ yrs.-old; poor condition

Status: Excess

Comments: off-site removal only; restrictive removal due to constraints surrounding land/vegetation.

COE

Dexter Reservoir Property Number: 31201410002

Fish Facility

Dexter OR

Location:

House: 100 sq. ft.; 2 sheds: each 68 sq. ft.

Status: Underutilized

Comments: poor conditions; contact COE for more information.

The Dallas Lock and Dam Property Number: 31201410013

Seaufert/Spearfish/Celilo Parks

Portland OR

Location: only 1 building is inside a secure area, others are outside, location is The Dalles, Oregon

Status: Unutilized

Comments: off-site removal only; no future agency need; secured area; sq. ft. varies; contact COE for more information on a specific property & removal/accessibility requirements.

Dexter Reservoir Property Number: 31201410014

Lakeside/Short ridge/Wilson Creek

Cottage Grove OR

Status: Underutilized

Comments: off-site removal only; no future agency need; contact COE for more information on a specific property & removal requirements.

Lost Creek Lake Property Number: 31201430001

Catfish Cove Restrooms

LCL OR

Status: Underutilized

Comments: off-site removal only; no future agency need; each 6′x6′; repairs needed; contact COE for more information.

US Moorings Property Number: 31201430008

8010 Northwest Saints Helens Road

Portland OR 97210

Location: U.S. Government-Storage Building (North of Machine Shop)

Status: Underutilized

Comments: off-site removal only; no future agency; 10x60 sq., removal may be difficult; poor conditions; storage space; contamination; secured area; contact COE for more information.

Army

Pennsylvania

Building 01015 Property Number: 21201320031

11 Hap Arnold Blvd.

Tobyhanna PA 18466

Status: Unutilized

Comments: off-site removal only; 3,120 sf.; recruiting station; 1 month vacant; poor conditions; asbestos; secured area; contact Army for more info.

Building 01001 Property Number: 21201320035

11 Hap Arnold Blvd.

Tobyhanna PA 18466

Status: Excess

Comments: off-site removal only; 4,830 sf.; youth center/admin.; 1 month vacant; poor conditions; asbestos; secured area; contact Army for more info.

Puerto Rico

5 Buildings Property Number: 21201330037

Ft. Buchanan

Guaynabo PR 00934

Location: 00141, 00551, 00558, 00570, 00579

Status: Excess

Comments: Off-site removal only; deteriorated; secured area; contact Army for info. on a specific property & accessibility removal reqs.

6 Buildings Property Number: 21201420011

Fort Buchanan

00176 Chrisman Road

Fort Buchanan PR 00934

Location: 00176; 00218; 00219; 00220; 00674; 00800

Status: Excess

Comments: off-site removal only; deteriorated; restricted access contact Army on a specific property and accessibility removal request.

00801 Property Number: 21201430001

Fort Buchanan

Fort Buchanan PR 00934

Location: 00801

Status: Excess

Comments: off-site removal only; 2.128 sq. ft.; 12+ months vacant; deteriorated; secured area; contact Army for more information.

Air Force

South Carolina

2 Building Property Number: 18201320054

Shaw AFB

Sumter SC 29152

Location: 1036, 1826

Status: Unutilized

Comments: off-site removal only; no AF future need; sf. varies; poor conditions; secured area, contact AF for more info.

4 Buildings Property Number: 18201320055

Shaw AFB

Sumter SC 29152

Location: 1027, 1028, 2451, 1034

Status: Underutilized

Comments: off-site removal only; no AF future need; sf. varies; poor conditions; secured area; contact AF for more info.

Building 1036 Property Number: 18201320086

311 Avocet Street, Shaw AFB

Sumter SC 29152

Status: Unutilized

Comments: off-site removal only; no future agency need; 1,694 sf.; open storage for auto hobby shop; repairs needed; secured area; contact AF for more info.

Building 1826 Property Number: 18201320087

100 Shaw Dr., Shaw AFB

Sumter SC 29152

Status: Unutilized

Comments: off-site removal only; no future agency need; 984 sf.; wash rack; repairs needed; secured area; contact AF for more info.

South Dakota

9201 Property Number: 18201440033

Ellsworth AFB

9201 Lincoln

Ellsworth SD 57706

Status: Underutilized

Comments: 3,619 sq. ft.; security forces training facility; 1+ yr. vacant; very poor conditions; high noise levels; contact Air Force for more information.

Army

Tennessee

Building 2250 Property Number: 21201340001

Indiana Ave; Ft. Campbell

Ft. Campbell TN 42223

Location: originally published under 21200330094 as `unsuitable'

Status: Unutilized

Comments: 2,500 sq. ft.; office; 36+ months vacant; poor conditions; need repairs; secured area; strict accessibility requirements; contact Army for more info.

4 Buildings Property Number: 21201410045

Fort Campbell

Ft. Campbell TN 42223

Location: 6846, 7605, 3109, 3707

Status: Unutilized

Comments: sq. ft. varies; poor conditions; asbestos/lead based paint; secured area; very strict accessibility requirements; contact Army for more info.

Building 00850 Property Number: 21201420013

Fort Campbell

Fort Campbell TN 42223

Status: Excess

Comments: 10,591 sq. ft.; office; 72+ yrs.-old; fair conditions; repairs required; contamination; access restrictions; contact Army for more info.

00869 Property Number: 21201430036

Fort Campbell

Fort Campbell TN 42223

Status: Excess

Comments: 3,076 sq. ft.; storage; fair conditions; asbestos in floor tiles; secured area; contact Army for more information.

00890 Property Number: 21201430037

Fort Campbell

Fort Campbell TN 42223

Status: Excess

Comments: 4,480 sq.; storage; fair condition; secured area; contact Army for more information.

05875 Property Number: 21201430041

Fort Campbell

Fort Campbell TN 42223

Status: Excess

Comments: 13,124 sq. ft.; chapel; fair condition; lead base paint; secured area; contact Army for more information.

06721 Property Number: 21201430042

Fort Campbell

Fort Campbell TN 42223

Status: Excess

Comments: 8,414 sq. ft.; chapel; fair condition; lead base paint; secured area; contact Army for more information.

07514 Property Number: 21201430043

Fort Campbell

Fort Campbell TN 42223

Status: Excess

Comments: 4,064 sq. ft.; chapel; fair condition; lead base paint; secured area; contact Army for more information.

07612 Property Number: 21201430044

Fort Campbell

Fort Campbell TN 42223

Status: Excess

Comments: 600 sq. ft.; storage; fair condition; secured area; contact Army for more information.

9 Buildings Property Number: 21201440002

Fort Campbell

Ft. Campbell TN 42223

Location: 00039; 00846; 05123; 05638; 05640; 05641; 05646; 07540; 07811

Status: Excess

Comments: off-site removal only; relocation may be extremely difficult due to size/type; sq. ft. varies; poor conditions; contamination; contact Army for more information.

09R28 Property Number: 21201440003

Fort Campbell

Ft. Campbell TN 42223

Status: Underutilized

Comments: off-site removal only; no future agency need; 552 sq. ft.; 26+ yrs.-old; range support facility; repairs needed; secured area; contact Army for more information.

04R28 Property Number: 21201440004

Fort Campbell

Ft. Campbell TN 42223

Status: Underutilized

Comments: off-site removal only; no future agency need; 800 sq. ft.; 26+ yrs.-old; major repairs; secured area; contact Army for more information.

03R28, 02r28, & 01R28 Property Number: 21201440005

Fort Campbell

Ft. Campbell TN 42223

Status: Underutilized

Comments: off-site removal only; no future agency need; 552 sq. ft.; range support facility; major repairs; secured area; contact Army for more information.

05127 Property Number: 21201440058

Fort Campbell

Ft. Campbell TN 42223

Status: Excess

Comments: off-site removal only; 224 sq. ft.; storage; fair conditions; contact Army for more information on accessibility/removal requirements.

4 Buildings Property Number: 21201440059

Fort Campbell

Ft. Campbell TN 42223

Location: 05211 (320 sq. ft.); 05665 (800 sq. ft.); 00100 (800 sq. ft.); 01604 (126 sq. ft.)

Status: Excess

Comments: off-site removal only; fair conditions; usage varies; contact Army for more information on a specific property.

Agriculture

Texas

Greenhouse Asset ID # Property Number: 15201420007

620240B033/RPUID 03.54364

#13101 Southern Plains Agric. Res. Ctr.

College Station TX 77845

Status: Unutilized

Comments: 1,950 sq. ft.; 48+ yrs.-old; repairs required for mechanical equipment; contact Agriculture for more information.

Army

Bldg. 92043 Property Number: 21200020206

Fort Hood

Ft. Hood Co: Bell TX 76544

Status: Unutilized

Comments: 450 sq. ft., most recent use—storage, off-site use only.

Bldg. 92044 Property Number: 21200020207

Fort Hood

Ft. Hood Co: Bell TX 76544

Status: Unutilized

Comments: 1920 sq. ft., most recent use—admin., off-site use only.

Bldg. 92045 Property Number: 21200020208

Fort Hood

Ft. Hood Co: Bell TX 76544

Status: Unutilized

Comments: 2108 sq. ft., most recent use—maint., off-site use only.

Bldgs. P6220, P6222 Property Number: 21200330197

Fort Sam Houston

Camp Bullis

San Antonio Co: Bexar TX

Status: Unutilized

Comments: 384 sq. ft., most recent use—carport/storage, off-site use only.

Bldgs. P6224, P6226 Property Number: 21200330198

Fort Sam Houston

Camp Bullis

San Antonio Co: Bexar TX

Status: Unutilized

Comments: 384 sq. ft., most recent use—carport/storage, off-site use only.

Bldg. 92039 Property Number: 21200640101

Fort Hood

Ft. Hood Co: Bell TX 76544

Status: Excess

Comments: 80 sq. ft., most recent use—storage, off-site use only.

Bldgs. 04281, 04283 Property Number: 21200720085

Fort Hood

Bell TX 76544

Status: Excess

Comments: 4000/8020 sq. ft., most recent use—storage shed, off-site use only.

Bldg. 04285 Property Number: 21200720087

Fort Hood

Bell TX 76544

Status: Excess

Comments: 8000 sq. ft., most recent use—storage shed, off-site use only.

Bldg. 04286 Property Number: 21200720088

Fort Hood

Bell TX 76544

Status: Excess

Comments: 36,000 sq. ft., presence of asbestos, most recent use—storage shed, off-site use only.

Bldg. 04291 Property Number: 21200720089

Fort Hood

Bell TX 76544

Status: Excess

Comments: 6400 sq. ft., presence of asbestos, most recent use—storage shed, off-site use only.

Bldg. 4410 Property Number: 21200720090

Fort Hood

Bell TX 76544

Status: Excess

Comments: 12,956 sq. ft., presence of asbestos, most recent use—simulation center, off-site use only.

Bldgs. 10031, 10032, 10033 Property Number: 21200720091

Fort Hood

Bell TX 76544

Status: Excess

Comments: 2578/3383 sq. ft., presence of asbestos, most recent use—admin., off-site use only.

Bldg. 56435 Property Number: 21200720093

Fort Hood

Bell TX 76544

Status: Excess

Comments: 3441 sq. ft., presence of asbestos, most recent use—barracks, off-site use only.

Bldg. 05708 Property Number: 21200720094

Fort Hood

Bell TX 76544

Status: Excess

Comments: 1344 sq. ft., most recent use—community center, off-site use only.

Bldg. 93013 Property Number: 21200720099

Fort Hood

Bell TX 76544

Status: Excess

Comments: 800 sq. ft., most recent use—club, off-site use only.

4 Bldgs. Property Number: 21200810048

Fort Hood

Bell TX 76544

Location: 00229, 00230, 00231, 00232

Status: Unutilized

Comments: various sq. ft., presence of asbestos, most recent use—training aids center, off-site use only.

Bldg. 00324 Property Number: 21200810049

Fort Hood

Bell TX 76544

Status: Unutilized

Comments: 13,319 sq. ft., most recent use—roller skating rink, off-site use only.

Bldgs. 00710, 00739, 00741 Property Number: 21200810050

Fort Hood

Bell TX 76544

Status: Unutilized

Comments: various sq. ft., presence of asbestos, most recent use—repair shop, off-site use only.

Bldg. 00713 Property Number: 21200810052

Fort Hood

Bell TX 76544

Status: Unutilized

Comments: 3200 sq. ft., presence of asbestos, most recent use—hdqts. bldg., off-site use only.

Bldgs. 1938, 04229 Property Number: 21200810053

Fort Hood

Bell TX 76544

Status: Unutilized

Comments: 2736/9000 sq. ft., presence of asbestos, most recent use—admin., off-site use only.

Bldgs. 02218, 02220 Property Number: 21200810054

Fort Hood

Bell TX 76544

Status: Unutilized

Comments: 7289/1456 sq. ft., presence of asbestos, most recent use—museum, off-site use only.

Bldg. 0350 Property Number: 21200810055

Fort Hood

Bell TX 76544

Status: Unutilized

Comments: 28,290 sq. ft., presence of asbestos, most recent use—veh. maint. shop, off-site use only.

Bldg. 04449 Property Number: 21200810056

Fort Hood

Bell TX 76544

Status: Unutilized

Comments: 3822 sq. ft., most recent use—police station, off-site use only.

Bldg. 91077 Property Number: 21200810057

Fort Hood

Bell TX 76544

Status: Unutilized

Comments: 3200 sq. ft., presence of asbestos, most recent use—educational facility, off-site use only.

Bldg. 57005 Property Number: 21200840073

Fort Hood

Bell TX 76544

Status: Excess

Comments: 500 sq. ft., presence of asbestos, most recent use—water supply/treatment, off-site use only.

B-42 Property Number: 21201210007

Fort Hood

Ft. Hood TX 76544

Status: Excess

Comments: off-site removal only; 893 sq. ft.; current use: storage; asbestos identified.

B-2319 Property Number: 21201210010

Fort Hood

Ft. Hood TX 76544

Status: Unutilized

Comments: off-site removal only; 1,339 sq. ft.; current use: exchange cafe; asbestos identified.

B-4237 Property Number: 21201210011

Fort Hood

Ft. Hood TX 76544

Status: Unutilized

Comments: off-site removal only; 7,840 sq. ft.; current use: storage; asbestos identified.

2 Bldgs. Property Number: 21201210012

Fort Hood

Ft. Hood TX 76544

Location: 4238, 4239

Status: Unutilized

Comments: off-site removal only; sq. ft. varies; current use: varies; asbestos identified.

6 Bldgs. Property Number: 21201210013

Fort Hood

Ft. Hood TX 76544

Location: 4240, 4241, 4253, 4254, 4271, 4444

Status: Unutilized

Comments: off-site removal only; sq. ft. varies; current use: varies; asbestos identified.

2 Bldgs. Property Number: 21201210014

Fort Hood

Ft. Hood TX 76544

Location: 5652, 56272

Status: Unutilized

Comments: off-site removal only; sq. ft. varies; current use: varies.

4 Bldgs. Property Number: 21201210015

Fort Hood

Ft. Hood TX 76544

Location: 4428, 4437, 4452, 56423

Status: Unutilized

Comments: off-site removal; sq. ft. varies; current use: varies; asbestos identified.

B-1301 Property Number: 21201220001

Ft. Bliss

Ft. Bliss TX 79916

Status: Underutilized

Comments: off-site removal only; 18,739 sf.; current use: thrift shop; poor conditions; need repairs.

Bldg. 7194 Property Number: 21201220002

Ft. Bliss

Ft. Bliss TX 79916

Status: Unutilized

Comments: off-site removal only; 2,125 sf.; current use: housing; poor conditions—need repairs; asbestos & lead identified; need remediation.

2 Buildings Property Number: 21201230012

West Ft. Hood

Ft. Hood TX 76544

Location: 90047 & 92080

Status: Excess

Comments: off-site removal only; 1,680 sf. (90047); 1,059 sf. (92080); restricted military installation; contact Army re: accessibility.

6 Buildings Property Number: 21201230057

Ft. Hood

Ft. Hood TX 76544

Location: 9541,4478,9511,41003,41002,70005

Status: Excess

Comments: off-site removal only; need repairs; asbestos identified in some bldgs. Restricted area; prior permission to access & relocate; contact Army for details on specific bldgs.

Building 11142 Property Number: 21201240009

SSG Sims Rd.

Ft. Bliss TX 79916

Status: Excess

Comments: off-site removal only; 12,644 sf.; mess hall; poor conditions; limited public access; contact Army for info. on accessibility/removal.

Building 6951 Property Number: 21201240010

11331 Montana Ave.

Ft. Bliss TX 79916

Status: Excess

Comments: off-site removal only; 288 sf.; utility bldg.; poor conditions; limited public access; contact Army for info. on accessibility/removal.

Building 6942 Property Number: 21201240011

11331 Montana Ave.

Ft. Bliss TX 79916

Status: Excess

Comments: off-site removal only; 1,059 sf.; storage; poor conditions; limited public access; contact Army for info. on accessibility/removal.

Bldg. 2432 Property Number: 21201240013

Carrington Rd.

Ft. Bliss TX 79916

Status: Excess

Comments: off-site removal only; 180 sf.; dispatch bldg.; poor conditions; limited public access; asbestos/lead identified; contact Army for info. on accessibility/removal.

Building 50 Property Number: 21201240014

50 Slater Rd.

Ft. Bliss TX 79916

Status: Excess

Comments: off-site removal only; 9,900 sf.; office; poor conditions; limited public access; asbestos/lead identified; contact Army for info. on accessibility/removal.

2 Building Property Number: 21201240044

Ft. Hood

Ft. Hood TX 76544

Location: 706,4286

Status: Excess

Comments: off-site removal only, sf. varies, fair conditions, asbestos, restricted area, contact Army for accessibility/removal & specific details on a property.

6 Buildings Property Number: 21201310044

Ft. Hood

Ft. Hood TX 76544

Location: 4209, 4490, 4479, 4402, 4214, 4401

Status: Excess

Comments: off-site removal only; sf. varies; right of entry restricted; contact Army for info. on a specific property & accessibility/removal requirements.

7 Buildings Property Number: 21201330004

Fort Hood

Fort Hood TX 96544

Location: 40066, 40067, 40068, 40069, 40070, 40071, 92070

Status: Excess

Comments: off-site removal only; sf. varies; contamination; secured area; contact Army for info on a specific property & accessibility/removal requirements.

2 Building Property Number: 21201330029

Fort Bliss

Fort Bliss TX 79916

Location: 05015(22,915 sf.); 05019(23,495 sf.)

Status: Unutilized

Comments: off-site removal only; no future agency need; poor conditions; 6+months vacant; contact Army for info. on accessibility; removal reqs.

Building 40072 Property Number: 21201330057

Metorpool Rd.

Fort Hood TX 76544

Status: Excess

Comments: off-site removal; 1,943 sf., health clinic; asbestos; 12+ months vacant; fair/moderate conditions; restricted area; contact Army for accessibility/removal reqs.

5 Buildings Property Number: 21201340032

Fort Hood

Fort Hood TX 76544

Location: 4416 (4,243 sq. ft.); 4417 (2,400 sq. ft.); 4433 (2,306 sq. ft.); 4442 (3,307 sq. ft.); 4458 (1,519 sq. ft.)

Status: Excess

Comments: off-site removal only; 8+ months vacant; restricted access; contact Army for more information on a specific property and accessibility requires.

2 Buildings Property Number: 21201410034

Fort Hood

Ft. Hood TX 76544

Location: 90084 (13,125 sq. ft.); 90000 (217 sq. ft.)

Status: Excess

Comments: off-site removal only; removal difficult due to structure type; contamination; secured area; contact Army for more info.

Building 4917 Property Number: 21201410035

Fort Hood

Ft. Hood TX 76544

Status: Excess

Comments: off-site removal only; 404 sq. ft.; removal may be difficult due to structure type; secured area; contact Army for more info.

92065 Property Number: 21201420021

92065 Supply Rd.

Fort Hoop TX 76544

Status: Excess

Comments: off-site removal only; 3,994 sq. ft.; admin general purpose; 1+ month vacant; contact Army for more information.

4285 Property Number: 21201430019

Fort Hood

Fort Hood TX 76544

Location: 4285

Status: Unutilized

Comments: off-site removal only; no future agency need; semi-perm. Structure type; 10,552 sq. ft.; removal may be difficult due to size; poor condition; secured area; contact Army for more information.

2 Buildings Property Number: 21201430020

Fort Hood

Fort Hood TX 76544

Location: 4461 (6,515 sq. ft.); 4611 (3,311 sq. ft.)

Status: Excess

Comments: off-site removal only; removal may be difficult due to size/type; fair to poor condition; asbestos present in building 4611; secured area; contact Army for more information.

4408 Property Number: 21201430021

Fort Hood

Fort Hood TX 76544

Location: 4408

Status: Excess

Comments: off-site removal only; semi-perm. Structure type; 9,812 sq. ft.; removal difficult due to size; fair condition; secured area; contact Army for more information.

6 Buildings Property Number: 21201430022

Red River Army Depot

Texarkana TX 75507-5000

Location: 02159; 02193; 02343; 02371; 02435; 02481

Status: Excess

Comments: off-site removal only; relocation may be difficult due to structure type; deteriorating; secured area; contact Army for more information on a specific property.

9 Buildings Property Number: 21201430030

Fort Hood

Fort Hood TX 76544

Location: 4640 (1,606sq.ft.); 4641 (2,021sq.ft.); 4644 (4,080sq.ft.); 4656 (4,045sq.ft.); 4657 (4,040sq.ft.); 36019 (3,192sq.ft.); 36027 (2,425sq.ft.); 36028 (2,400sq.ft.)

Status: Unutilized

Comments: off-site removal only; no future agency need; due to site relocation may be difficult; poor condition; secured area; contact Army for more information.

715 Property Number: 21201430047

Fort Hood

Fort Hood TX 76544

Status: Excess

Comments: off-site removal only; 2,810 sq. ft.; semi-permanent structure type; 11+ months vacant; fair condition; contamination; secured area; contact Army for more information.

07133 Property Number: 21201440011

Fort Bliss

Ft. Bliss TX 79916

Status: Unutilized

Comments: off-site removal only; no future agency need; relocation difficult due to size/type; 12,178 sq. ft.; storage; 120+ months vacant; poor conditions; contact Army for more information.

5 Buildings Property Number: 21201440012

Fort Bliss

Ft. Bliss TX 79916

Location: 07134; 07142; 07153; 07162; 07178

Status: Unutilized

Comments: off-site removal only; no future agency need; relocation difficult due to size/type; sq. ft. varies; 120+ months vacant; poor conditions; contact Army for more information.

05095 Property Number: 21201440022

Fort Bliss

Ft. Bliss TX 79916

Status: Unutilized

Comments: off-site removal only; no future agency need; 12+ months vacant; good conditions; secured area; contact Army for more information.

07113 Property Number: 21201440023

Fort Bliss

Ft. Bliss TX 79916

Status: Unutilized

Comments: off-site removal only; 8,855 sq. ft.; no future agency need; relocation difficult due to size/type; 120+ months vacant; child-care center; poor conditions; contact Army for more information.

2 Buildings Property Number: 21201440035

Yoakum USARC

Yoakum TX 77995

Location: P1005; P1006

Status: Underutilized

Comments: off-site removal only; no future agency need; 30 sq. ft.; storage for flammable materials; 53+ yrs.-old; remediation needed; contact Army for more information.

01113 Property Number: 21201440043

Red River Army Depot

Texarkana TX 75507

Status: Excess

Comments: off-site removal only; 257 sq. ft.; access control facility; 50+ yrs.-old; contact Army for more information.

00940 Property Number: 21201440044

Red River Army Depot

Texarkana TX 75507

Status: Excess

Comments: off-site removal only; 200 sq. ft.; breakroom; extensive deterioration; 19+ yrs.-old; secured area; contact Army for more information.

00930 Property Number: 21201440046

Red River Army Depot

Texarkana TX 75507

Status: Excess

Comments: off-site removal only; 200 sq. ft.; ammunition storage; 31+ yrs.-old; extensive deterioration; secured area; contact Army for more information.

Land

1 acre Property Number: 21200440075

Fort Sam Houston

San Antonio Co: Bexar TX 78234

Status: Excess

Comments: 1 acre, grassy area

COE

Building

Building Camper Service Property Number: 31201430011

Restroom

1901 Skyview Dr.

Wylie TX 75098

Status: Excess

Comments: off-site removal; 38+years old; 576 sq.; located in a controlled area; removal may be difficult; contact COE for more information.

Whitney Lake Property Number: 31201440006

285 CR 3602

Clifton TX 76634

Location: WH-2758;WH-27971; WH-27984

Status: Excess

Comments: off-site removal only; 62+ yrs. old; 257.04 sq. ft.; restroom; contact COE for more information.

Navy

Naval Air Station Corpus Property Number: 77201440023

Christi

Doct. Storage, Bldg. 145

Corpus Christi TX 78419-5021

Status: Excess

Comments: 30+ yrs. old; 6,000 sq. ft.; storage; poor condition; contact Navy for more information & accessibility.

Army

Building

Utah

Building 00118 Property Number: 21201310002

1 Tooele Army Depot

Tooele UT 84074

Location: previously reported under HUD property number 21200740163

Status: Underutilized

Comments: off-site removal only; 6,136 sf.; 4 mons. vacant; barracks; major repairs needed; w/in secured area; contact Army for info. on accessibility/removal reqs.

Building 00155 Property Number: 21201310003

1 Tooele Army Depot

Tooele UT 84074

Location: previously reported under HUD property number 21200740165

Status: Underutilized

Comments: off-site removal only; 8,960 sf.; bowling ctr.; major repairs needed; w/in secured area; contact Army for info. on accessibility/removal reqs.

Building 00030 Property Number: 21201310067

Tooele Army Depot

Tooele UT 84074

Status: Underutilized

Comments: off-site removal only; playground; disassembly required; minor restoration needed; restricted area; contact Army for accessibility/removal reqs.

Building 01322 Property Number: 21201330047

1 Tooele Army Depot

Tooele UT 84074

Status: Unutilized

Comments: Off-site removal only; no future agency need; 53 sf.; 26+ months vacant; access control facility; poor conditions; secured area; contact Army for more info. on accessibility removal reqs.

Army

Building

Virginia

Fort Story Property Number: 21200720065

Ft. Story VA 23459

Status: Unutilized

Comments: 525 sq. ft., most recent use—power plant, off-site use only.

8 Bldgs. Property Number: 21201220004

Ft. Belvoir

Ft. Belvoir VA 22060

Location: 808, 1150, 1197, 2303, 2903, 2905, 2907, 3137

Status: Excess

Comments: off-site removal only; sf. varies; usage varies; good to poor conditions; may require repairs; contact Army for more details on specific properties.

9 Buildings Property Number: 21201240003

Ft. Belvoir

Ft. Belvoir VA 22060

Location: 358, 361, 1140, 1141, 1142, 1143, 1498, 1499, 2302

Status: Unutilized

Comments: off-site removal only; sf. varies; Admin.; fair conditions; located in restricted area; contact Army for info. on accessibility/removal & specific info. on a property.

Building 3327 Property Number: 21201320008

1410 Byrd St.

Ft. Lee VA 23801

Status: Excess

Comments: off-site removal only; 10,800 sf.; repairs needed; contamination; secured area; contact Army for more info.

Building 3325 Property Number: 21201320009

Byrd St. btw. 13th & 16th Sts.

Ft. Lee VA 23801

Status: Excess

Comments: off-site removal only; 5,829 sf.; repairs needed; contamination; secured; contact Army for more info.

Building 3324 Property Number: 21201320010

Byrd St. btw. 13th & 16th Sts.

Ft. Lee VA 23801

Status: Excess

Comments: off-site removal only; 5,092 sf.; repairs needed; secured area; contact Army for more info.

Building 3206 Property Number: 21201320011

Corner of Adams Ave. & 13th St.

Ft. Lee VA 23801

Status: Excess

Comments: off-site removal only; 55,979 sf.; repairs needed; secured area; contamination; contact Army for more info.

Building 3108 Property Number: 21201320012

Corner of Adam & 13th St.

Ft. Lee VA 23801

Status: Excess

Comments: off-site removal only; 51,718 sf.; repairs needed; secured area; contamination; contact Army for more info.

Building 3701 Property Number: 21201320013

16th & Byrd St.

Ft. Lee VA 23801

Status: Excess

Comments: off-site removal only; 40,920 sf.; repairs needed; secured area; contact Army for more info.

4229 Property Number: 21201430004

Fort Lee

Fort Lee VA 23081

Location: 4229

Status: Underutilized

Comments: 97,696 sq. ft.; Army lodging; 41+ months vacant; elevator inoperable; contamination; secured area; contact Army for more information.

510 Property Number: 21201430007

Defense Supply Center

Richmond VA 23237

Location: 510

Status: Excess

Comments: off-site removal only; removal may be difficult due to structure type; Barbeque Pit; 20 sq. ft.; 22+ years old; secured area; contact Army for more information.

COE

Buffalo Park Bldg. Property Number: 31201410001

John H. Kerr Lake & Dam

Mecklenburg VA 23917

Status: Unutilized

Comments: 897 sq. ft.; vacant; deteriorated; repairs needed; contact COE for more information.

Comfort Stations, Property ID# Property Number: 31201440010

PHL-17771

1058 Philpot Dam Rd

Bassett VA 24055

Status: Unutilized

Comments: off-site removal only; 189 sq. ft.; difficult to remove due to structure type; no future agency need; contact COE for more information.

Navy

Blades Circle Sheds Property Number: 77201420019

JER Little Creek

Wallop Island VA

Status: Unutilized

Comments: off-site removal only; no future agency need; age: 1987-1990; 2,496 total sq. ft.; 24+ months vacant; poor conditions; contact Navy for more information.

Blades Circle Duplex Units Property Number: 77201420020

JER Little Creek

Wallop Island VA

Status: Unutilized

Comments: off-site removal only; no future agency need; age: 1987-1990; 36,202 total sq. ft.; 24+ months vacant; poor conditions; contact Navy for more information.

Blades Circle Housing Units Property Number: 77201420021

JER Little Creek

Wallop Island VA

Status: Unutilized

Comments: off-site removal only; no future agency need age: 1987-1990; 43,591 total sq. ft.; 24+ months vacant; poor conditions; contact Navy for more information.

Agriculture

Building

Washington

Liberty Airbase Trailer Property Number: 15201410007

(2131.005511) 07672 00

Liberty WA 98922

Status: Unutilized

Comments: 320 sq. ft.; storage; 38+ yrs.-old; damaged due to break-ins; contact Agriculture for more information.

Glacier garage Near Res. #1096 Property Number: 15201410010

(1057.004841) 07661 00

Glacier WA 98244

Status: Unutilized

Comments: 306 sq. ft.; open bldg. w/no roof; deteriorated; contact Agriculture for more information.

Baker River WC 3 Br. Res. Property Number: 15201410013

(1046.004841) 07661 02

Concrete WA 98237

Status: Unutilized

Comments: 1,488 sq. ft.; residence; repairs needed; impacted due to environmental conditions; contact Agriculture for more information.

Fruit Handling Bldg. 1 Property Number: 15201440006

1104 N. Western Ave. Asset ID 535000B001/

RPUID 03.54625

Wenatchee WA 98801

Status: Underutilized

Comments: 47+ yrs. old; 3,200 sq. ft.; storage; fair condition; steel; located on WSU campus; contact Agriculture of more information & accessibility.

Chinook Pass WC 3 Br Res Property Number: 15201440008

1107.00551 0767200

171137 Washington 410

Naches WA 98937

Status: Excess

Comments: 54+ yrs.-old; 1,300 sq. ft.; stick built; residential; 128+ months vacant; roof need repairs; contact Agriculture for more information.

Army

7903 Property Number: 21201230023

Plant Rd.

JBLM WA 98433

Status: Unutilized

Comments: 169 sf.; use: access control facility; extensive repairs needed; secured area; contact Army re: accessibility requirements.

E1302 & R7610 Property Number: 21201230028

JBLM

JBLM WA 98433

Status: Unutilized

Comments: 80 sf. (E1302); 503 sf. (R7610); use: varies; major repairs needed; secured area; contact Army re: accessibility requirements.

Bldg. 06239 Property Number: 21201430053

Joint Base Lewis McChord

JBLM WA 90433

Status: Unutilized

Comments: off-site removal only; no future agency need; deconstruct to relocate; difficult to relocate due to size/type; poor conditions; contact Army for more info.

23 Buildings Property Number: 21201430054

Joint Base Lewis McChord

JBLM WA 98433

Location: 03223; 03225; 03627; 03628; 03629; 03632; 03638; 03640; 03641; 03643; 03644; 03645; 06991; 09663; 09998; 11680; A0303; C1342; F0017; F0018; J0831; J0833; W3641

Status: Underutilized

Comments: off-site removal only; no future agency need; deconstruct to relocate; difficult to relocate due to type/size; poor conditions; secured area; contact for more info.

Building 02080 Property Number: 21201440048

Joint Base Lewis McChord

JBLM WA 98433

Status: Underutilized

Comments: off-site removal only; no future agency need; relocation may be difficult due to type/size; 2,031 sq. ft.; storage; 1+ month vacant; major repairs needed; contact Army for more information.

2 Buildings Property Number: 21201440057

Joint Base Lewis McChord

JBLM WA 98433

Location: 01036; 01037

Status: Underutilized

Comments: off-site removal only; no future agency need; relocation extremely difficult due to size.

COE

Washington

Bonneville Lock and Dam Property Number: 31201420003

Fish View Building

Town of N. Bonneville WA

Location: 3 planters; 2 out of the 3 planters have seating

Status: Underutilized

Comments: off-site removal only; fiber glass planters; no future agency need; contact COE for more information

Agriculture

Wisconsin

Deer Farm Main Cabin Property Number: 15201420004

Canthood Lake

Iron River WI

Status: Excess

Comments: off-site removal only; 1,368 sq. ft.; residence; 96+ months vacant; repairs needed; secured area; contact Agriculture for more information.

Deer Farm Guest Cabin Property Number: 15201420005

Canthood Lake

Iron River WI

Status: Unutilized

Comments: off-site removal only; 1,260 sq. ft.; no future agency need; roof leaks extensively; mold; lead-based paint likely; contact Agriculture for more information.

Deer Farm Guest Cabin Property Number: 15201420018

Canthood Lake

Iron River WI

Status: Excess

Comments: off-site removal; removal maybe extremely difficult due to dilapidating conditions; high presence of mold; severe water damage; contact Agriculture for more information.

Luepke Way Garage Property Number: 15201440005

207 Luepke Way

Medford WI 54451

Status: Unutilized

Comments: off-site removal only; no future agency need; 96+ months vacant; 576 sq. ft.; roof & siding in poor conditions; wood structure; contact Agriculture for more information.

Army

7 Buildings Property Number: 21201440053

Fort McCoy

Ft. McCoy WI 54656

Location: 00822; 01146; 01350; 02559; 02866; 09020; 09030

Status: Unutilized

Comments: off-site removal only; no future agency need; relocation may be difficult due to size/type; contamination; poor conditions; sq. varies; secured area; contact Army for more info.

VA

Building 2 Property Number: 97201420001

Tomah VA Medical

Center

Tomah WI

Status: Unutilized

Comments: 26,756 sq. ft.; two-story plus raised basement; age:81+ years-old; major renovations are needed; new sanitary plumbing system is needed; lead-based paint & asbestos; contact VA for more info.

Agriculture

Wyoming

#13545 Property Number: 15201420016

Bow River Work Center Shop/Storage

Elk Mtn. WY

Location: NFSR 261/NFSR 101 JUNCTION

Status: Excess

Comments: 813 sq. ft.; storage; 108+ months vacant; floor stringer rotten; roof covering has been removed; no power; contact Agriculture for more information.

TITLE V PROPERTIES REPORTED IN YEAR 2014 WHICH ARE SUITABLE AND UNAVAILABLE

GSA

Land

Alabama

1.74 acres Property Number: 54201430011

1707 Capshaw Road

Madison AL 35757

Status: Excess

GSA Number: 4-U-AL-0813AA

Reason: Advertised for sale

Building

Alaska

FAA Housing Property Number: 54201440002

111 Henrichs Loop Road

Cordova AK 99754

Status: Excess

GSA Number: 9-U-AK-0854

Reason: Expression of Interest Received

Army

Arizona

Bldg. 22541 Property Number: 21200520078

Fort Huachuca

Cochise AZ 85613-7010

Status: Excess

Reason: Occupied

Bldg. 22040 Property Number: 21200540076

Fort Huachuca

Cochise AZ 85613

Status: Excess

Reason: Occupied

GSA

San Carlos Irrigation Project Property Number: 54201440008

BIA Old Main Office Bldg.

255 W. Roosevelt

Coolidge AZ 85128

Status: Surplus

GSA Number: 9-I-AZ-1706-AA

Reason: holding period expires 02/17/2015

Army

California

00806 Property Number: 21201410017

Fort Hunter Liggett

Fort Hunter Liggett CA 93928

Status: Unutilized

Reason: Existing Federal Need

Building 573 Property Number: 21201410037

Fort Irwin

Ft. Irwin CA 92310

Status: Unutilized

Reason: Existing Federal need; occupied

GSA

Land

San Lorenzo Lot Property Number: 54201430014

Between 15770 and 15794 Connolly Avenue

San Lorenzo CA 94580

Status: Excess

GSA Number: 9-W-CA-1703-AA

Reason: Advertised for sale

Army

Building

Georgia

1096 Property Number: 21201410001

Fort Stewart

Ft. Stewart GA 31314

Status: Excess

Reason: Existing Federal Need; Occupied

3 Buildings Property Number: 21201410002

Hunter Army Airfield

Hunter Army Airfield GA 31409

Status: Excess

Reason: Existing Federal Need; Occupied

1124 Property Number: 21201410010

Hunter Army Airfield

Hunter Army Airfield GA 31409

Status: Excess

Reason: Existing Federal need; occupied

GSA

Idaho

Ditchrider House Property Number: 54201420011

3970 1st Lane East

Parma ID 83660

Status: Excess

GSA Number: 9-I-ID-0585

Reason: Advertised for sale

BOR Upper Snake River Property Number: 54201420012

Field Office

1359 Hansen Ave.

Burley ID 83318

Status: Excess

GSA Number: 9-I-ID-0586

Reason: Expression of Interest Received

Illinois

Peoria Radio Repeater Site Property Number: 54201420008

Between Spring Creek and Caterpillar Lane

Peoria IL

Status: Excess

GSA Number: I-D-IL-806

Reason: Expression of interest received

Kansas

Former SS Admin. Building Property Number: 54201420007

801 S. Broadway

Pittsburg KS 66762

Status: Surplus

GSA Number: 7-G-KS-0529

Reason: Expression of interest received

Kentucky

Quicksand Plant Materials Property Number: 54201440005

Center

176 Robinson Road

Quicksand KY 41339

Status: Surplus

GSA Number: 4-A-KY-0630-AA

Reason: conveyance pending 159

Army

Louisiana

Bldgs. T406, T407, T411 Property Number: 21200540085

Fort Polk

Ft. Polk LA 71459

Status: Unutilized

Reason: Occupied

8 Buildings Property Number: 21201340023

Fort Polk

Fort Polk LA 71459

Status: Underutilized

Reason: Existing Federal need

Army

Maryland

Bldg. 294 Property Number: 21200140081

Ft. George G. Meade

Ft. Meade Co: Anne Arundel MD 20755

Status: Unutilized

Reason: Occupied

Bldg. 1007 Property Number: 21200140085

Ft. George G. Meade

Ft. Meade Co: Anne Arundel MD 20755

Status: Unutilized

Reason: Occupied

Bldg. 2214 Property Number: 21200230054

Fort George G. Meade

Fort Meade Co: Anne Arundel MD 20755

Status: Unutilized

Reason: Occupied

Bldg. 8608 Property Number: 21200410099

Fort George G. Meade

Ft. Meade MD 20755-5115

Status: Unutilized

Reason: Occupied

Bldg. 8612 Property Number: 21200410101

Fort George G. Meade

Ft. Meade MD 20755-5115

Status: Unutilized

Reason: Occupied

Bldg. 0001A Property Number: 21200520114

Federal Support Center

Olney Co: Montgomery MD 20882

Status: Unutilized

Reason: Occupied

Bldg. 0001C Property Number: 21200520115

Federal Support Center

Olney Co: Montgomery MD 20882

Status: Unutilized

Reason: Occupied

Bldgs. 00032, 00H14, 00H24 Property Number: 21200520116

Federal Support Center

Olney Co: Montgomery MD 20882

Status: Unutilized

Reason: Occupied

Bldgs. 00034, 00H016 Property Number: 21200520117

Federal Support Center

Olney Co: Montgomery MD 20882

Status: Unutilized

Reason: Occupied

Bldgs. 00H10, 00H12 Property Number: 21200520118

Federal Support Center

Olney Co: Montgomery MD 20882

Status: Unutilized

Reason: Occupied

GSA

Carroll County Memorial USARC Property Number: 54201430003

404 Malcolm Drive

Westminster MD 21157

Status: Excess

GSA Number: 4-DMD-1130AA

Reason: Expression of interest received

Metro West Property Number: 54201440004

300 N. Green St.

Baltimore MD 21201

Status: Excess

GSA Number: 4-G-MD-0624AA

Reason: Expression of interest received

Michigan

Sleeping Bear Dunes National Property Number: 54201430013

Lakeshore-Carmichael House

6234 S. Dune Highway

Empire MI 49630

Status: Excess

GSA Number: 1-I-MI-0702-AB

Reason: Advertised for sale

Army

Missouri

Bldg. 1230 Property Number: 21200340087

Fort Leonard Wood

Ft. Leonard Wood Co: Pulaski MO 65743-8944

Status: Unutilized

Reason: Occupied

Bldg. 1621 Property Number: 21200340088

Fort Leonard Wood

Ft. Leonard Wood Co: Pulaski MO 65743-8944

Status: Unutilized

Reason: Occupied

Bldg. 5760 Property Number: 21200410102

Fort Leonard Wood

Ft. Leonard Wood Co: Pulaski MO 65743-8944

Status: Unutilized

Reason: Occupied

Bldg. 5762 Property Number: 21200410103

Fort Leonard Wood

Ft. Leonard Wood Co: Pulaski MO 65743-8944

Status: Unutilized

Reason: Occupied

Bldg. 5763 Property Number: 21200410104

Fort Leonard Wood

Ft. Leonard Wood Co: Pulaski MO 65743-8944

Status: Unutilized

Reason: Occupied

Bldg. 5765 Property Number: 21200410105

Fort Leonard Wood

Ft. Leonard Wood Co: Pulaski MO 65743-8944

Status: Unutilized

Reason: Occupied

Bldg. 5760 Property Number: 21200420059

Fort Leonard Wood

Ft. Leonard Wood Co: Pulaski MO 65743-8944

Status: Unutilized

Reason: In use

Bldg. 5762 Property Number: 21200420060

Fort Leonard Wood

Ft. Leonard Wood Co: Pulaski MO 65743-8944

Status: Unutilized

Reason: In use

Bldg. 5763 Property Number: 21200420061

Fort Leonard Wood

Ft. Leonard Wood Co: Pulaski MO 65743-8944

Status: Unutilized

Reason: In use

Bldg. 5765 Property Number: 21200420062

Fort Leonard Wood

Ft. Leonard Wood Co: Pulaski MO 65743-8944

Status: Unutilized

Reason: In use

Bldg. 00467 Property Number: 21200530085

Fort Leonard Wood

Ft. Leonard Wood Co: Pulaski MO 65743

Status: Unutilized

Reason: Occupied

GSA

Land

Former Nike Battery Site Property Number: 54201430002

Kansas City 30

15616 S KK Highway

Pleasant Hill MO 64080

Status: Surplus

GSA Number: 7-D-MO-0522

Reason: Advertised for Sale

Building

Montana

Huntley Townsite Tract 127 Property Number: 54201410006

Near Hwy 522

Huntley MT 59037

Status: Surplus

GSA Number: 7-I-MT-0633-AB

Reason: Expression of Interest Received

168

Army

Nevada

4 Buildings Property Number: 21201340020

Hawthorne Army Depot

Hawthorne NV 89415

Status: Underutilized

Reason: Existing Federal need

6 Buildings Property Number: 21201340021

Hawthorne Army Depot

Hawthorne NV 89415

Status: Unutilized

Reason: Existing Federal need

GSA

Land

Ditchrider Sorensen Road Property Number: 54201440006

2105 Sorensen Road

Fallon NV 89406

Status: Surplus

GSA Number: 9-I-NV-0572-AB

Reason: Holding period expires 02/17/2015

Ditchrider South East Street Property Number: 54201440007

207 South East St.

Fallon NV 89406

Status: Surplus

GSA Number: 9-I-NV-0572-AA

Reason: Holding period expires 02/17/2015

GSA

Building

New Mexico

Former Lordsburg Border Patrol Property Number: 54201430008

Station

441 Duncan Highway

Lordsburg NM 88045

Status: Surplus

GSA Number: 7-X-NM-0608

Reason: Advertised for sale

New York

A Scotia Depot Property Number: 54201420003

One Amsterdam Road

Scotia NY 12302

Status: Surplus

GSA Number: 54201420003

Reason: Expression of Interest Received

North Carolina

Greenville Site A Transmitting Property Number: 54201410008

Station

1000 Cherry run Rd.

Greenville NC 27834

Status: Excess

GSA Number: 4-Z-NC-0753

Reason: Conveyance pending

Navy

Land

Marine Corps Base, Camp Property Number: 77201440009

Lejeune, NC

Intersection of NC HWY 24 & Montford Point Rd

Camp Lejeune NC

Status: Underutilized

Reason: Existing Federal need

Marine Corps Installations E.—Property Number: 77201440022

Marine Corps Base Camp Lejeune

Hwy 24, Montford Point Landing Rd. & Hwy 17

Jacksonville NC

Status: Underutilized

Reason: Existing Federal need

GSA

Building

Ohio

N. Appalachian Experimental Property Number: 54201420006

Watershed Research Ctr.

28850 State Rte. 621

Coshocton OH 43824

Status: Excess

GSA Number: 1-A-OH-849

Reason: Expression of Interest

Glenn Research Center- Property Number: 54201440014

Plumbrook Station: Big Island Plumbing

Station; 6100 Columbus Ave.

Sandusky OH 44870

Status: Excess

GSA Number: 1-Z-OH-0598-3-AC

Reason: Holding period expires 02/22/2015

Land

Glenn Research Center- Property Number: 54201440012

Plumbrook Station: Parcel #63

6100 Columbus Ave.

Sandusky OH 44870

Status: Excess

GSA Number: 1-Z-OH-0598-5-AE

Reason: Holding period expires 02/22/2015

Air Force

Building

Oklahoma

24 Buildings Property Number: 18201310040

Tinker AFB

Tinker AFB OK 73145

Status: Excess

Reason: Federal need

Building 4008 Property Number: 18201320085

6285 Hilltop Rd.

Tinker AFB OK 73145

Status: Excess

Reason: Existing Federal need

GSA

Clarmore Federal Office Property Number: 54201440001

Building

118 South Missouri Avenue

Claremore OK 74017

Status: Surplus

GSA Number: 7-I-OK-0568-AB

Reason: Expression of Interest Received

Land

South Carolina

Marine Corps Reserve Training Property Number: 54201410009

Center

2517 Vector Ave.

Goose Creek SC 29406

Status: Excess

GSA Number: 4-N-SC-0630-AA

Reason: Conveyance pending

Former FAA Outer Marker Property Number: 54201410011

Facility—Greer

Brookfield Parkway

Greer SC 29651

Status: Excess

GSA Number: 1-U-SC-0631

Reason: Listed elsewhere in canvass on 11/21/14 listing

Tennessee

Former FAA Outer Marker Property Number: 54201410012

Facility—Nashville

W End of Kinhawk Drive

Nashville TN 37211

Status: Excess

GSA Number: 1-U-TN-0672

Army

Building

Texas

Bldgs. 4219, 4227 Property Number: 21200220139

Fort Hood

Ft. Hood Co: Bell TX 76544

Status: Unutilized

Reason: Admin use

Bldgs. 4229, 4230, 4231 Property Number: 21200220140

Fort Hood

Ft. Hood Co: Bell TX 76544

Status: Unutilized

Reason: Admin use

Bldgs. 4244, 4246 Property Number: 21200220141

Fort Hood

Ft. Hood Co: Bell TX 76544

Status: Unutilized

Reason: Admin use

Bldg. 04335 Property Number: 21200440090

Fort Hood

Bell TX 76544

Status: Excess

Reason: Occupied

Bldg. 04468 Property Number: 21200440096

Fort Hood

Bell TX 76544

Status: Excess

Reason: Occupied

Bldg. 07002 Property Number: 21200440100

Fort Hood

Bell TX 76544

Status: Excess

Reason: Occupied

Bldg. 57001 Property Number: 21200440105

Fort Hood

Bell TX 76544

Status: Excess

Reason: Occupied

Bldgs. 125, 126 Property Number: 21200620075

Fort Hood

Bell TX 76544

Status: Excess

Reason: Occupied

Bldg. 02240 Property Number: 21200620078

Fort Hood

Bell TX 76544

Status: Excess

Reason: Occupied

Bldg. 04164 Property Number: 21200620079

Fort Hood

Bell TX 76544

Status: Excess

Bldgs. 04218, 04228 Property Number: 21200620080

Fort Hood

Bell TX 76544

Status: Excess

Reason: Occupied

Bldg. 04272 Property Number: 21200620081

Fort Hood

Bell TX 76544

Status: Excess

Reason: Not occupied

Bldg. 04415 Property Number: 21200620083

Fort Hood

Bell TX 76544

Status: Excess

Reason: Occupied

Bldg. 04493 Property Number: 21200620091

Fort Hood

Bell TX 76544

Status: Excess

Reason: Occupied

Bldg. 04494 Property Number: 21200620092

Fort Hood

Bell TX 76544

Status: Excess

Reason: Occupied

Bldg. 04632 Property Number: 21200620093

Fort Hood

Bell TX 76544

Status: Excess

Reason: Occupied

Bldg. 04640 Property Number: 21200620094

Fort Hood

Bell TX 76544

Status: Excess

Reason: Occupied

Bldg. 04645 Property Number: 21200620095

Fort Hood

Bell TX 76544

Status: Excess

Reason: Occupied

Bldg. 20121 Property Number: 21200620097

Fort Hood

Bell TX 76544

Status: Excess

Reason: Occupied

Bldg. 91052 Property Number: 21200620101

Fort Hood

Bell TX 76544

Status: Excess

Reason: Occupied

Bldg. 1345 Property Number: 21200740070

Fort Hood

Bell TX 76544

Status: Excess

Reason: Utilized

Bldgs. 1348, 1941 Property Number: 21200740071

Fort Hood

Bell TX 76544

Status: Excess

Reason: Utilized

Bldg. 1943 Property Number: 21200740073

Fort Hood

Bell TX 76544

Status: Excess

Reason: Utilized

Bldg. 1946 Property Number: 21200740074

Fort Hood

Bell TX 76544

Status: Excess

Reason: Utilized

Bldg. 4207 Property Number: 21200740076

Fort Hood

Bell TX 76544

Status: Excess

Reason: Utilized

Bldg. 4208 Property Number: 21200740077

Fort Hood

Bell TX 76544

Status: Excess

Reason: Utilized

Bldgs. 4210, 4211, 4216 Property Number: 21200740078

Fort Hood

Bell TX 76544

Status: Excess

Reason: Utilized

Bldg. 4219A Property Number: 21200740079

Fort Hood

Bell TX 76544

Status: Excess

Reason: Utilized

Bldg. 04252 Property Number: 21200740081

Fort Hood

Bell TX 76544

Status: Excess

Reason: Utilized

Bldg. 04480 Property Number: 21200740083

Fort Hood

Bell TX 76544

Status: Excess

Reason: Utilized

Bldg. 04485 Property Number: 21200740084

Fort Hood

Bell TX 76544

Status: Excess

Reason: Utilized

Bldg. 04489 Property Number: 21200740086

Fort Hood

Ft. Hood TX 76544

Status: Excess

Reason: Utilized

Bldgs. 4491, 4492 Property Number: 21200740087

Fort Hood

Bell TX 76544

Status: Excess

Reason: Utilized

Bldgs. 04914, 04915, 04916 Property Number: 21200740089

Fort Hood

Bell TX 76544

Status: Excess

Reason: Utilized

Bldg. 20102 Property Number: 21200740091

Fort Hood

Bell TX 76544

Status: Excess

Reason: Utilized

Bldg. 20118 Property Number: 21200740092

Fort Hood

Bell TX 76544

Status: Excess

Reason: Utilized

Bldg. 29027 Property Number: 21200740093

Fort Hood

Bell TX 76544

Status: Excess

Reason: Utilized

Bldg. 56017 Property Number: 21200740094

Fort Hood

Bell TX 76544

Status: Excess

Reason: Utilized

Bldg. 56202 Property Number: 21200740095

Fort Hood

Bell TX 76544

Status: Excess

Reason: Utilized

Bldg. 56224 Property Number: 21200740096

Fort Hood

Bell TX 76544

Status: Excess

Reason: Utilized

Bldg. 56329 Property Number: 21200740100

Fort Hood

Bell TX 76544

Status: Excess

Reason: Utilized

Bldg. 92043 Property Number: 21200740102

Fort Hood

Bell TX 76544

Status: Excess

Reason: Utilized

Bldg. 92072 Property Number: 21200740103

Fort Hood

Bell TX 76544

Status: Excess

Reason: Utilized

Bldg. 92083 Property Number: 21200740104

Fort Hood

Bell TX 76544

Status: Excess

Reason: Utilized

Bldgs. 04213, 04227 Property Number: 21200740189

Fort Hood

Bell TX 76544

Status: Excess

Reason: Utilized

Bldg.4404 Property Number: 21200740190

Fort Hood

Bell TX 76544

Status: Excess

Reason: Utilized

Bldg. 56607 Property Number: 21200740191

Fort Hood

Bell TX 76544

Status: Excess

Reason: Utilized

Bldg. 91041 Property Number: 21200740192

Fort Hood

Bell TX 76544

Status: Excess

Reason: Utilized

5 Bldgs. Property Number: 21200740193

Fort Hood

93010, 93011, 93012, 93014

Bell TX 76544

Status: Excess

Reason: Utilized

Bldg. 94031 Property Number: 21200740194

Fort Hood

Bell TX 76544

Status: Excess

Reason: Utilized

Building 6924 Property Number: 21201240012

11331 Montana Ave.

Ft. Bliss TX 79916

Status: Excess

Reason: Occupied

8 Buildings Property Number: 21201410020

Fort Hood

Ft. Hood TX 76544

Status: Excess

Reason: Existing Federal Need; Occupied

9 Buildings Property Number: 21201410021

Fort Hood

Fort Hood TX 96544

Status: Excess

Reason: Existing Federal need; occupied

8 Buildings Property Number: 21201410023

Fort Hood

Fort Hood TX 76544

Status: Excess

Reason: Existing Federal need; occupied

8 Buildings Property Number: 21201410028

Fort Hood

Ft. Hood TX 76544

Status: Excess

Reason: Existing federal need; occupied

2 Buildings; Natural Resource Property Number: 54201430007

Conservation Service Waco Facility

200 South Price Street

Waco TX 76501

Status: Surplus

GSA Number: 7-A-TX-0556

Reason: Advertised for sale

FT Hancock Border Patrol Stati Property Number: 54201430010

235 Knox Avenue

Ft. Hancock TX 79839

Status: Surplus

GSA Number: 7-X-TX-1157-AA

Reason: Expression of Interest

Ft Hancock Border Patrol Property Number: 54201430012

Station

250 Kbix Avenue

Ft Hancock TX 79839

Status: Surplus

GSA Number: 7-X-TX-1157-AB

Reason: Expression of Interest

Army

Virginia

Bldg. T2827 Property Number: 21200320172

Fort Pickett

Blackstone Co: Nottoway VA 23824

Status: Unutilized

Reason: Occupied

Bldg. T2841 Property Number: 21200320173

Fort Pickett

Blackstone Co: Nottoway VA 23824

Status: Unutilized

Reason: Occupied

Bldg. 01014 Property Number: 21200720067

Fort Story

Ft. Story VA 23459

Status: Unutilized

Reason: Occupied

Bldg. 01063 Property Number: 21200720072

Fort Story

Ft. Story VA 23459

Status: Unutilized

Reason: Occupied

Bldg. 00215 Property Number: 21200720073

Fort Eustis

Ft. Eustis VA 23604

Status: Unutilized

Reason: Occupied

GSA

Johnson House and Shed Property Number: 54201430005

12503 Cavalry Court

Spotsylvania VA 22553

Status: Excess

GSA Number: 4-I-VA-1145AA

Reason: Expression of interest received

Army

Washington

03215 Property Number: 21201410008

Joint Base Lewis McChord

JBLM WA 98433

Status: Underutilized

Reason: Existing federal Need; Occupied

7 Buildings Property Number: 21201410016

Joint Base Lewis McChord

JBLM WA 98433

Status: Underutilized

Reason: Existing Federal Need; occupied

03221 Property Number: 21201410039

Joint Base Lewis McChord

JBLM WA 98433

Status: Underutilized

Reason: Existing Federal Need

GSA

Old Colville Border Patrol Property Number: 54201420009

209 E. Juniper Ave.

Colville WA 99114

Status: Excess

GSA Number: 9-Z-WA-1272

Reason: Expression of interested received

Old Oroville Border Patrol Property Number: 54201420010

Station

1105 Main St.

Oroville WA 98844

Status: Excess

GSA Number: 9-Z-WA-1272-AB

Reason: Expression of Interest

West Virginia

Naval Information Operations Property Number: 54201430015

Center

133 Hedrick Drive

Sugar Grove WV 26815

Status: Excess

GSA Number: 4-N-WV-0560

Reason: Expression of Interest

Wisconsin

St. Croix National Scenic Property Number: 54201430001

River way Residential Structures

401 N. Hamilton St.

St. Croix Falls WI 54204

Status: Excess

GSA Number: 1-I-WI-541B

Reason: Conveyance Pending

[FR Doc. 2015-02688 Filed 2-12-15; 8:45 am]

BILLING CODE 4210-67-P